DEPARTMENT OF HOMELAND SECURITY

Coast Guard

46 CFR Parts 97 and 148

[Docket No. USCG-2009-0091]

RIN 1625-AB47

Bulk Solid Hazardous Materials: Harmonization With the International Maritime Solid Bulk Cargoes (IMSBC) Code

AGENCY: Coast Guard, DHS.

ACTION: Final rule.

SUMMARY: The Coast Guard is harmonizing its regulations with amendments to Chapter VI and Chapter VII of the International Maritime Organization (IMO) International Convention for the Safety of Life at Sea, 1974, as amended, (SOLAS) that make the International Maritime Solid Bulk Cargoes (IMSBC) Code mandatory. The amendments require that all vessels subject to SOLAS, and carrying bulk solid cargoes other than grain, comply with the IMSBC Code. The Coast Guard is amending its regulations governing the carriage of solid hazardous materials in bulk to allow use of the IMSBC Code as an equivalent form of compliance for all domestic and foreign vessels operating in U.S. navigable waters. The amended Coast Guard regulations also expand the list of solid hazardous materials authorized for bulk transportation by vessel and include special handling procedures based on the IMSBC Code and existing special permits. These changes reduce the need for the current special permits required for the carriage of certain solid hazardous materials in bulk.

DATES: This final rule is effective January 1, 2011. The Coast Guard will not enforce collection of information requirements contained in this rule until the information collection is approved by the Office of Management and Budget (OMB), and the Coast Guard will publish a document in the Federal Register announcing approval of the information collection. The incorporation by reference of certain publications listed in the rule is approved by the Director of the Federal Register as of January 1, 2011.

ADDRESSES: Comments and material received from the public, as well as documents mentioned in this preamble as being available in the docket, are part of docket USCG-2009-0091 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2009-0091 in the “Keyword” box, and then clicking “Search.”

FOR FURTHER INFORMATION CONTACT: If you have questions on this rule, call or e-mail Richard Bornhorst, Office of Operating and Environmental Standards, Hazardous Materials Standards Division (CG-5223), Coast Guard, telephone 202-372-1426, e-mail Richard.C.Bornhorst@uscg.mil. If you have questions on viewing or submitting material to the docket, call Renee V. Wright, Program Manager, Docket Operations, telephone 202-366-9826.

SUPPLEMENTARY INFORMATION:

Table of Contents for Preamble

I. Abbreviations

II. Regulatory History

III. Basis and Purpose

IV. Background

V. Discussion of Comments and Changes

VI. Incorporation by Reference

VII. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

ACGIH American Conference of Governmental Industrial Hygienists

BC Code Code of Safe Practice for Solid Bulk Cargoes

BCSN Bulk Cargo Shipping Name

CFR Code of Federal Regulations

DHS Department of Homeland Security

DRI Direct Reduced Iron

FR Federal Register

IMO International Maritime Organization

IMSBC Code International Maritime Solid Bulk Cargoes Code

LFL Lower Flammability Limit

LSA Low Specific Activity

MISLE Marine Information for Safety and Law Enforcement

MHB Materials Hazardous only in Bulk

MSDS Material Safety Data Sheet

NEPA National Environmental Policy Act of 1969

N.O.S. Not Otherwise Specified

NPRM Notice of Proposed Rulemaking

NTTAA National Technology Transfer and Advancement Act

OMB Office of Management and Budget

PDM Potentially Dangerous Material

RQ Reportable Quantity

SOLAS International Convention for the Safety of Life at Sea, 1974, as amended

TLV Threshold Limit Value

TML Transportable Moisture Limit

UN United Nations

U.S.C. United States Code

II. Regulatory History

On June 17, 2010, we published a notice of proposed rulemaking (NPRM) entitled “Bulk Solid Hazardous Materials: Harmonization with the International Maritime Solid Bulk Cargoes (IMSBC) Code; Notice of proposed rulemaking” in the Federal Register (75 FR 34574). We also published a correction on June 18, 2010, addressing the environmental analysis checklist (75 FR 34682). We received one comment letter containing two comments regarding the NPRM. No public meeting was requested and none was held.

This rulemaking is related to a previous rulemaking (docket number: CGD 87-069) that the Coast Guard closed in 1995. The 1989 advance NPRM (54 FR 18308), 1994 NPRM (59 FR 17418) and public comments thereon, and the 1995 termination of the rulemaking (60 FR 18793) are all discussed in detail in the June 17, 2010, NPRM that preceded this final rule (75 FR 34574).

III. Basis and Purpose

The Secretary of Homeland Security delegated to the Coast Guard the authority necessary to conduct this rulemaking, including the authority to carry out the functions and exercise the authorities in 46 U.S.C. 3306 and 5111, and to carry out the functions of 46 U.S.C. 3306(a)(5) and 49 U.S.C. 5101 et seq. relating to the regulation of bulk transportation of hazardous materials loaded or carried on board a vessel without benefit of containers or labels. Under these and other authorities, the Coast Guard is promulgating these regulations to allow the use of the IMSBC Code as an equivalent form of compliance with 46 CFR part 148 for international shipments originating or concluding in the United States, subject to conditions and limitations.

The Coast Guard initiated this rulemaking to address international requirements for the carriage of hazardous materials in international maritime commerce, including requirements coming into effect on January 1, 2011, and to alleviate the burden on the public and the Coast Guard caused by the need to obtain and maintain special permits for the carriage of 30 solid cargoes not previously included in Coast Guard regulations. In order to address these concerns, this rule implements international requirements, such as requirements that vessels carry oxygen analysis and gas detection equipment, and allows the use of the international standard—the IMSBC Code—as an equivalent form of compliance with domestic regulations. The rule also updates Coast Guard regulations to include cargoes that previously had to be transported under special permit, thereby reducing the burden on the public and on the Coast Guard.

IV. Background

The Coast Guard regulations governing the carriage of solid hazardous materials in bulk are found in 46 CFR parts 97 and 148. Part 148 prescribes regulations for the transport of solid hazardous materials in bulk by vessel on U.S. navigable waters. Subpart 148.01 includes, among other things, a list of permitted solid cargoes that may be transported without special permit from the Coast Guard; the list was last revised in 1984 (49 FR 16794). Prior to this rulemaking, the list did not cover 30 solid cargoes that are now shipped in bulk by vessel and that require special handling procedures to ensure safety in transportation. The Coast Guard therefore has issued special permits specifying conditions under which vessels may transport these additional bulk solid cargoes. Maintaining these special permits placed a burden on the Coast Guard and the regulated community.

In addition to the need to update the list of permitted cargoes, changes to international requirements necessitated this rulemaking. The carriage of hazardous materials in international maritime commerce is now governed by Chapter VII of SOLAS. In 1990 and 1991, the IMO amended Chapter VI of SOLAS, which formerly applied only to grain cargoes, to include all bulk solid cargoes. The amended Chapter VI of SOLAS requires that the master receive written cargo information, that the vessel carry oxygen analysis and gas detection equipment on board when the cargoes to be carried are likely to emit toxic or flammable gases, and that the master possess information regarding the ship's stability and the distribution of cargo after loading. On January 1, 1994, these amendments became binding for all nations signatory to SOLAS, including the United States.

In December 2008, IMO further amended SOLAS Chapter VI and Chapter VII to require compliance with the relevant provisions of the IMSBC Code for the carriage of bulk solid cargoes other than grain. The IMSBC Code, formerly known as the BC Code, provides standards for shippers, vessel operators, and masters to ensure the safe handling and carriage of bulk solid cargoes. Implementation of the IMSBC Code will become mandatory on January 1, 2011, and several countries have already adopted the Code, in whole or in part, as national regulation. Countries that are signatory to SOLAS will require compliance with the IMSBC Code for all bulk solid shipments occurring in their jurisdiction.

Several bulk solid cargoes covered by the IMSBC Code also are regulated by the Coast Guard under 46 CFR part 148, under either the list of permitted cargoes or the terms of a special permit.

V. Discussion of Comments and Changes

The Coast Guard received only one public comment letter containing two comments regarding the June 17, 2010, NPRM. That letter focused “specifically to proposed changes related to sulphur” and indicated the commenter “fully supports the U.S. Coast Guard's proposed changes” to Parts 97 and 148. The commenter also indicated its “support of transportation regulations and reasonable requirements that are based on technical and factual information and improve public safety.” The Coast Guard appreciates the commenter's support.

After receiving these supportive comments, and taking into account the extensive discussion and public comment that preceded this rule, which is described above and in the June 17, 2010, NPRM, the Coast Guard adopts the proposed rule as final without substantive change. For a complete discussion of the rule, please see the discussion included in the NPRM. We have made nonsubstantive changes, however, to correct grammar, internal paragraph references, and a temperature conversion error, as discussed below.

Specifically, we made minor grammatical corrections in §§ 148.1(b), 148.8, 148.115(a), and 148.155(b)(3), and minor punctuation changes in §§ 148.415, 148.420, and 148.445. We updated § 148.8 (“Incorporation by Reference”) to standardize the format, update addresses, and indicate the specific paragraphs in which the incorporated standards are referenced, give the complete title of the IMO's publication of the IMSBC Code, and specifically note that the supplemental materials included in the IMO publication are not incorporated by this rule.

In § 148.26(b), the NPRM had referred the reader to information required in § 148.90, but § 148.90 does not require any information: we corrected that internal reference to read § 148.60, which is the section that discusses information required to be provided to the master.

In §§ 148.150(d) and 148.265(f), we corrected an error in converting Celsius to Fahrenheit. When referring to a temperature 5 °C above ambient temperature, the proposed rule erroneously gave the Fahrenheit conversion as “5 °C (41 °F).” Although a temperature of 5 °C is equivalent to a temperature of 41 °F, an incremental change of 5 °C is equivalent to a change of 9 °F. A temperature 5 °C above ambient temperature would be 9 °F above ambient temperature, and we have corrected the regulatory text to read “5 °C (9 °F).”

Finally, in § 148.240(m) we corrected two internal paragraph references. The proposed text described frequency of monitoring required by paragraph (l) of this section, which was incorrect because monitoring is required by paragraph (f). Similarly, the proposed § 148.240(m)(3) referred to paragraphs (n)(1) and (n)(2), which was incorrect because there was no proposed paragraph (n); the correct reference is to paragraphs (m)(1) and (m)(2).

VI. Incorporation by Reference

The Director of the Federal Register has approved the material in § 148.8 for incorporation by reference under 5 U.S.C. 552 and 1 CFR part 51. Copies of the material are available from the sources listed in that section.

VII. Regulatory Analyses

We developed this rule after considering numerous statutes and executive orders related to rulemaking. Below we summarize our analyses based on 13 of these statutes or executive orders.

A. Regulatory Planning and Review

Executive Order 12866, “Regulatory Planning and Review,” 58 FR 51735, October 4, 1993, requires a determination whether a regulatory action is “significant” and therefore subject to review by OMB and subject to the requirements of the Executive Order. This rulemaking is not significant under Executive Order 12866 and has not been reviewed by OMB.

Public comments on the NPRM are summarized in Part V of this preamble. We received one letter containing two supportive public comments, and have made no changes that would alter our assessment of impacts in the NPRM. We have found no additional data or information that would change our findings in the NPRM. We have adopted the analysis in the NPRM for this rule as final. A summary of the analysis follows:

The Coast Guard is harmonizing its regulations with recent IMO amendments to Chapter VI and Chapter VII of SOLAS that make the IMSBC Code mandatory for operations involving handling and carriage of solid bulk cargoes by vessel. The amendments require that all vessels subject to SOLAS that carry bulk solid cargoes other than grain comply with the IMSBC Code. This rule also amends the Coast Guard regulations governing the carriage of solid hazardous materials in bulk to allow the use of the IMSBC Code as an equivalent form of compliance. Changes to the Coast Guard regulations also expand the list of solid hazardous materials authorized for bulk transportation by vessel and include special handling procedures based on the IMSBC Code and existing special permits. These changes will reduce the need for the current special permits required for the carriage of certain solid hazardous materials in bulk and may result in a cost savings for industry.

Based on information from the Coast Guard's Marine Information for Safety and Law Enforcement (MISLE) data system, we estimate the rule will affect approximately 115 vessels, consisting of 75 U.S. vessels in coastwise service and 40 U.S. vessels operating under SOLAS that ship hazardous solid cargoes in bulk.

This rule will result in additional equipment, training, and operating costs to industry. We estimate that industry will incur initial (first year) costs and annual recurring costs as a result of this rule. We estimate these costs vary over time and by vessel operations (see the Regulatory Analysis and Initial Regulatory Flexibility Analysis available in the docket for additional details).

Over a 10-year period, we estimate total net present value costs of the rule to be $57.2 million at a 7 percent discount rate. We estimate the annualized costs to be $8.1 million at a 7 percent discount rate.

The benefits of this rule include a reduction in the risks associated with off-gassing and self-heating cargoes. These standards are comprehensive safety requirements that align with international convention (the IMSBC Code, implemented by SOLAS), and are intended to increase information dissemination regarding the safe handling of hazardous cargoes.

These safety standards extend to all U.S.-flagged vessels carrying hazardous bulk solid cargoes. A lack of safe handling of hazardous cargoes, such as coal or wood, can cause combustion of cargoes and the release of gases that could result in the loss of life, injuries, and property damage, among others. The rule will also improve the efficiency of government by reducing the administrative costs associated with special permits.

B. Small Entities

Under the Regulatory Flexibility Act (5 U.S.C. 601-612) (RFA), we have considered whether this rule has a significant economic impact on a substantial number of small entities. The term “small entities” comprises small businesses, not-for-profit organizations that are independently owned and operated and are not dominant in their fields, and governmental jurisdictions with populations of fewer than 50,000.

We prepared an Initial Regulatory Flexibility Analysis (IRFA) for the NPRM that discussed the impacts on small entities (a combined “Regulatory Assessment and Initial Regulatory Flexibility Analysis” report is available in the docket where indicated under ADDRESSES). We received no comments on the IRFA. As previously discussed in Part V of this preamble, we received one letter containing two supportive public comments and have made no changes that would alter our assessment of impacts in the NPRM.

Under section 604(a) of the RFA, the Coast Guard prepared this Final Regulatory Flexibility Analysis (FRFA). Section 604(a) of the RFA provides the content of the FRFA, which we discuss below—

(1) A succinct statement of the need for, and objectives of, the rule.

Coast Guard response: We initiated this rulemaking to address international requirements for the carriage of hazardous materials in international maritime commerce, including requirements coming into effect on January 1, 2011, and to alleviate the burden on the public and the Coast Guard caused by the need to maintain special permits for the carriage of 30 solid cargoes not previously included in Coast Guard regulations. In order to address these concerns, this rule implements international requirements, such as requirements that vessels carry oxygen analysis and gas detection equipment, and allows the use of the IMSBC Code as an equivalent form of compliance with domestic regulations. The rule also updates Coast Guard regulations to include cargoes that previously had to be transported under special permit, thereby reducing the burden on the public and on the Coast Guard.

(2) A summary of the significant issues raised by the public comments in response to the IRFA, a summary of the assessment of the agency of such issues, and a statement of any changes made in the proposed rule as a result of such comments.

Coast Guard response: Public comments on the NPRM are summarized in Part V of the Final Rule. We received one letter containing two supportive public comments. We received no public comments on the IRFA and have made no changes that would alter our assessment of impacts in the NPRM. We have found no additional data or information that would change our findings in the NPRM.

(3) A description of and an estimate of the number of small entities to which the rule will apply or an explanation of why no such estimate is available.

Coast Guard response: Based on data from the Coast Guard's Marine Information for Safety and Law Enforcement (MISLE) database and public and proprietary data sources for company revenue and employee size data, we determined that the rule will affect 86 entities that own 115 vessels. We estimate these entities are owners and operators of bulk carriers of hazardous cargo. Based on available data, we did not find evidence that small not-for-profit organizations or small government jurisdictions will be impacted by this rule.

We found revenue and employment information on 33 of the 86 entities. Among these, eight entities are considered small businesses based on the Table of Small Business Size Standards established by the U.S. Small Business Administration (SBA).¹ As discussed in the IRFA, we assume vessels with no available information are also likely to be small entities. Therefore, we estimate about 70 percent of the entities affected by this rule are small entities under SBA size standards.

¹ See http://www.sba.gov/idc/groups/public/documents/sba_homepage/serv_sstd_tablepdf.pdf (Effective August 22, 2008).

(4) A description of the projected reporting, recordkeeping and other compliance requirements of the rule, including an estimate of the classes of small entities which will be subject to the requirement and the type of professional skills necessary for preparation of the report or record.

Coast Guard response: Under the provisions of the rule, vessels and barge companies will no longer submit special permit renewal requests to the Coast Guard. Handling requirements related to previously permitted cargoes will be part of 46 CFR part 148. Eliminating these permits will reduce the burden by reducing the number of respondents, responses, and burden hours associated with permit requests. See the “Collection of Information” section for additional detail on the type of information, respondents and burden associated with documentation provisions of this rule.

(5) A description of the steps the agency has taken to minimize the significant economic impact on small entities consistent with the stated objectives of applicable statutes, including a statement of the factual, policy, and legal reasons for selecting the alternative adopted in the final rule and why each one of the other significant alternatives to the rule considered by the agency which affect the impact on small entities was rejected.

Coast Guard response: We received only one public comment letter, containing two supportive comments on the proposed rule. We have not changed the original provisions or considered additional alternatives for this rule. We considered and evaluated four alternatives in the NPRM (see the “Regulatory Assessment and Initial Regulatory Flexibility Analysis” available in the docket for more detail).

C. Assistance for Small Entities

Under section 213(a) of the Small Business Regulatory Enforcement Fairness Act of 1996 (Pub. L. 104-121), we want to assist small entities in understanding this rule so that they can better evaluate its effects on them and participate in the rule. If the rule affects your small business, organization, or governmental jurisdiction and you have questions concerning its provisions or options for compliance, please contact Richard Bornhorst at the telephone number or e-mail address indicated under the FOR FURTHER INFORMATION CONTACT section of this rule. The Coast Guard will not retaliate against small entities that question or complain about this rule or any policy or action of the Coast Guard.

Small businesses may send comments on the actions of Federal employees who enforce or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule will revise an existing collection of information under the Paperwork Reduction Act of 1995 (44 U.S.C. 3501-3520). As defined in 5 CFR 1320.3(c), “collection of information” comprises reporting, recordkeeping, monitoring, posting, labeling, and other similar actions. The title and description of the information collection, a description of those who must collect the information, and an estimate of the change in annual burden follow. The estimated change covers the time for preparing or renewing special permit requests for hazardous solid bulk cargoes.

Under the provisions of the rule, vessels and barge companies will no longer submit special permit renewal requests to the Coast Guard. Handling requirements related to previously permitted cargoes will be part of 46 CFR part 148. Eliminating these special permits will reduce the burden associated with 1625-0025 by reducing the number of respondents, responses, and burden hours associated with special permit requests.

Title: Carriage of Bulk Solid Materials Requiring Special Handling.

OMB Control Number: 1625-0025.

Summary of the Collection of Information: The U.S. Coast Guard administers and enforces the law, regulations, and international conventions for the safe transportation and stowage of hazardous materials, including bulk solids. Consequently, the Coast Guard is authorized to issue special permits for the handling of hazardous solid bulk cargo as part of its missions to ensure maritime safety and facilitate U.S. commerce. In addition to special permits, this collection of information also authorizes the preparation and display of shipping papers and cargo manifests. However, the rule will change only the burden estimates associated with special permits.

Need for Information: The special permits allow the Coast Guard to regulate the conditions under which shipments of hazardous materials can be made, while giving the shipping industry a greater amount of flexibility than would be afforded without the special permit provision. If the required information were not submitted, the Coast Guard would be unable to issue special permits with adequate precautions for shipping the cargo, and thus could not permit shipment.

Use of Information: The Coast Guard uses this information to make a determination as to the severity of the hazard posed by the material in question. This information allows the Coast Guard to set specific guidelines for safe carriage or, if determined that a material presents too great a hazard, to deny permission for shipping the material.

Description of the Respondents: The respondents are owners and operators of bulk carrier vessels and barges carrying hazardous solid cargo.

Number of Respondents: The existing OMB-approved number of respondents for this collection, including permit requests, shipping papers, and cargo manifest, is 583. We estimate the number of respondents will decrease by seven as the rule eliminates the need for all but one special permit. The total number of respondents will be 576.

Number of Responses: The existing OMB-approved number of responses is 771. The rule will decrease that number by 10. The total number of responses will be 761 per year as a result of a decrease in special permit requests.

Frequency of Response: The rule will not alter the frequency of response for permits that remain active. Since this rule does not impact shipping papers or cargo manifests, frequency of responses for those items remain unchanged.

Burden of Response: The estimated burden for preparation of a permit request remains at 15 hours per permit.

Estimate of Total Annual Burden: This rule will eliminate the need for all but one of the special permits associated with this collection of information. Therefore, the annual burden associated with special permits will decline from 165 hours to 15 hours. The total burden for the collection of information, including cargo manifests and shipping papers, decreases from 895 hours to 745 hours per year.

Reason for Change: The decrease in burden is the result of a program change that eliminates the need for most of the special permits in this collection of information.

As required by the Paperwork Reduction Act of 1995 (44 U.S.C. 3507(d)), we have submitted a copy of this rule to the OMB for its review of the collection of information.

If you submit comments on the collection of information, submit them both to OMB and to the Docket Management Facility where indicated under ADDRESSES, by the date under DATES.

You need not respond to a collection of information unless it displays a currently valid control number from OMB. Before the requirements for this collection of information become effective, we will publish a notice in the Federal Register of OMB's decision to approve, modify, or disapprove the collection.

E. Federalism

A rule has implications for federalism under Executive Order 13132, Federalism, if it has a substantial direct effect on State or local governments and would either preempt State law or impose a substantial direct cost of compliance on them.

It is well settled that States may not regulate in categories reserved for regulation by the Coast Guard. It is also well settled, now, that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. (See the decision of the Supreme Court in the consolidated cases of United States v. Locke and Intertanko v. Locke, 529 U.S. 89 (March 6, 2000).)

This rule includes requirements under which certain solid materials requiring special handling may be transported in bulk by vessel. The revised regulations apply to all domestic and foreign vessels in the navigable waters of the United States that transport bulk solid materials requiring special handling. The authority to establish such regulations for vessels operating in the navigable waters of the United States has been committed to the Coast Guard by Federal statutes. Furthermore, because vessels tend to move from port to port in the national and international marketplace, the safety standards included in this rule are of national scope to avoid burdensome variances. Therefore the Coast Guard intends this rule to preempt state action addressing the same subject matter.

Because the States may not regulate within this category, preemption considerations set forth in Executive Order 13132 are not applicable.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

G. Taking of Private Property

This rule will not cause a taking of private property or otherwise have taking implications under Executive Order 12630, Governmental Actions and Interference with Constitutionally Protected Property Rights.

H. Civil Justice Reform

This rule meets applicable standards in sections 3(a) and 3(b)(2) of Executive Order 12988, Civil Justice Reform, to minimize litigation, eliminate ambiguity, and reduce burden.

I. Protection of Children

We have analyzed this rule under Executive Order 13045, Protection of Children from Environmental Health Risks and Safety Risks. This rule is not an economically significant rule and does not create an environmental risk to health or risk to safety that may disproportionately affect children.

J. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

K. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule incorporates by reference the IMSBC Code, which was developed by the IMO as a voluntary consensus standard, and Recommendations on the Transport of Dangerous Goods, Manual of Tests and Criteria, developed by the United Nations as a voluntary consensus standard. The sections that reference these voluntary consensus standards, and the locations where the standards are available, are listed in 46 CFR 148.8.

M. Environment

We have analyzed this rule under Department of Homeland Security Management Directive 023-01 and Commandant Instruction M16475.lD, which guide the Coast Guard in complying with the National Environmental Policy Act of 1969 (NEPA) (42 U.S.C. 4321-4370f), and have concluded that this action is one of a category of actions that do not individually or cumulatively have a significant effect on the human environment. This rule is categorically excluded under section 2.B.2, figure 2-1, paragraphs (34)(a) and (d) of the Instruction. This rule involves regulations which are editorial or procedural and regulations concerning manning, documentation, admeasurement, inspection and equipping of vessels. An environmental analysis checklist and a categorical exclusion determination are available in the docket where indicated under ADDRESSES.

List of Subjects

46 CFR Part 97

Cargo vessels, Marine safety, Navigation (water), Reporting and recordkeeping requirements.

46 CFR Part 148

Cargo vessels, Hazardous materials transportation, Marine safety, Incorporation by reference.

For the reasons discussed in the preamble, the Coast Guard amends 46 CFR parts 97 and 148 as follows:

PART 97—OPERATIONS

1. The authority citation for Part 97 is revised to read as follows:

Authority: 33 U.S.C. 1321(j); 46 U.S.C. 2103, 3306, 5111, 6101; 49 U.S.C. 5103, 5106; E.O. 12234, 45 FR 58801, 3 CFR, 1980 Comp., p. 277; E.O. 12777, 56 FR 54757; 3 CFR, 1991 Comp., p. 351; Department of Homeland Security Delegation No. 0170.1.

2. Revise Subpart 97.12, consisting of §§ 97.12-1 through 97.12-5, to read as follows:

Subpart 97.12—Bulk Solid Cargoes

Sec.
97.12-1 Definition of a bulk solid cargo.
97.12-3 Guidance for the master.
97.12-5 Bulk solid cargoes that may liquefy.

§ 97.12-1 Definition of a bulk solid cargo.

(a) A bulk solid cargo—

(1) Consists of particles, granules, or larger pieces of material generally uniform in composition;

(2) Is not grain; and

(3) Is loaded directly into a vessel's cargo space with no intermediate form of containment.

(b) Additional requirements for bulk solid materials needing special handling are contained in Part 148 of this chapter.

§ 97.12-3 Guidance for the master.

(a) The owner or operator of a vessel must provide the master with safe loading and stowage information for each bulk solid cargo that vessel will carry.

(b) The shipper of a bulk solid cargo, as defined in § 148.3 of this chapter, must provide the master of a vessel with information regarding the nature of the cargo in advance of loading operations. Additional requirements in § 148.60 of this chapter may also apply.

§ 97.12-5 Bulk solid cargoes that may liquefy.

If the information provided in § 97.12-3(a) or (b) indicates that the bulk solid cargo to be carried is prone to liquefy during carriage, due to small particle sizes and moisture content, then the requirements contained in § 148.450 of this chapter apply.

3. Revise § 97.55-1 to read as follows:

§ 97.55-1 Master's responsibility.

Before loading bulk grain or any bulk solid cargo to which § 148.435 of this chapter applies, the master shall have the lighting circuits to cargo compartments in which the grain or bulk solid cargo is to be loaded de-energized at the distribution panel or panel board. He shall thereafter have periodic inspections made of the panel or panel board as frequently as necessary to ascertain that the affected circuits remain de-energized while this bulk cargo remains within the vessel.

4. Revise Part 148 to read as follows:

PART 148—CARRIAGE OF BULK SOLID MATERIALS THAT REQUIRE SPECIAL HANDLING

Subpart A—General
Sec.
148.1 Purpose and applicability.
148.2 Responsibility and compliance.
148.3 Definitions.
148.5 Alternative procedures.
148.7 OMB control numbers assigned under the Paperwork Reduction Act.
148.8 Incorporation by reference.
148.9 Right of appeal.
148.10 Permitted materials.
148.11 Hazardous or potentially dangerous characteristics.
148.12 Assignment and certification.
Subpart B—Special Permits
148.15 Petition for a special permit.
148.20 Deadlines for submission of petition and related requests.
148.21 Necessary information.
148.25 Activities covered by a special permit.
148.26 Standard conditions for special permits.
148.30 Records of special permits issued.
Subpart C—Minimum Transportation Requirements
148.50 Cargoes subject to this subpart.
148.51 Temperature readings.
148.55 International shipments.
148.60 Shipping papers.
148.61 Emergency response information.
148.62 Location of shipping papers and emergency response information.
148.70 Dangerous cargo manifest; general.
148.71 Information included in the dangerous cargo manifest.
148.72 Dangerous cargo manifest; exceptions.
148.80 Supervision of cargo transfer.
148.85 Required equipment for confined spaces.
148.86 Confined space entry.
148.90 Preparations before loading.
148.100 Log book entries.
148.110 Procedures followed after unloading.
148.115 Report of incidents.
Subpart D—Stowage and Segregation
148.120 Stowage and segregation requirements.
148.125 Stowage and segregation for materials of Class 4.1.
148.130 Stowage and segregation for materials of Class 4.2.
148.135 Stowage and segregation for materials of Class 4.3.
148.140 Stowage and segregation for materials of Class 5.1.
148.145 Stowage and segregation for materials of Class 7.
148.150 Stowage and segregation for materials of Class 9.
148.155 Stowage and segregation for potentially dangerous materials.
Subpart E—Special Requirements for Certain Materials
148.200 Purpose.
148.205 Ammonium nitrate and ammonium nitrate fertilizers.
148.220 Ammonium nitrate-phosphate fertilizers.
148.225 Calcined pyrites (pyritic ash, fly ash).
148.227 Calcium nitrate fertilizers.
148.230 Calcium oxide (lime, unslaked).
148.235 Castor beans.
148.240 Coal.
148.242 Copra.
148.245 Direct reduced iron (DRI); lumps, pellets, and cold-molded briquettes.
148.250 Direct reduced iron (DRI); hot-molded briquettes.
148.255 Ferrosilicon, aluminum ferrosilicon, and aluminum silicon containing more than 30% but less than 90% silicon.
148.260 Ferrous metal.
148.265 Fish meal or fish scrap.
148.270 Hazardous substances.
148.275 Iron oxide, spent; iron sponge, spent.
148.280 Magnesia, unslaked (lightburned magnesia, calcined magnesite, caustic calcined magnesite).
148.285 Metal sulfide concentrates.
148.290 Peat moss.
148.295 Petroleum coke, calcined or uncalcined, at 55 °C (131 °F) or above.
148.300 Radioactive materials.
148.310 Seed cake.
148.315 Sulfur.
148.320 Tankage; garbage tankage; rough ammonia tankage; or tankage fertilizer.
148.325 Wood chips; wood pellets; wood pulp pellets.
148.330 Zinc ashes; zinc dross; zinc residues; zinc skimmings.
Subpart F—Additional Special Requirements
148.400 Applicability.
148.405 Sources of ignition.
148.407 Smoking.
148.410 Fire hoses.
148.415 Toxic gas analyzers.
148.420 Flammable gas analyzers.
148.435 Electrical circuits in cargo holds.
148.445 Adjacent spaces.
148.450 Cargoes subject to liquefaction.

Authority: 33 U.S.C. 1602; E.O. 12234, 45 FR 58801, 3 CFR, 1980 Comp., p. 277; 46 U.S.C. 3306, 5111; 49 U.S.C. 5103; Department of Homeland Security Delegation No. 0170.1.

Subpart A—General

§ 148.1 Purpose and applicability.

(a) This part prescribes special handling procedures for certain solid materials that present hazards when transported in bulk by vessel.

(b) Except as noted in paragraph (c) of this section, this part applies to all domestic and foreign vessels in the navigable waters of the United States that transport bulk solid materials requiring special handling.

(c) This part does not apply to an unmanned barge on a domestic voyage carrying a Potentially Dangerous Material (PDM) found in Table 148.10 of this part. All barges on international voyages must follow the requirements for PDM.

(d) The regulations in this part have preemptive impact over State law on the same subject. The Coast Guard has determined, after considering the factors developed by the Supreme Court in U.S. v. Locke, 529 U.S. 89 (2000), that in directing the Secretary to regulate the safe transportation of hazardous material and the safety of individuals and property on board vessels subject to inspection, as well as the provision of loading information, Congress intended to preempt the field of safety standards for solid materials requiring special handling when transported in bulk on vessels.

§ 148.2 Responsibility and compliance.

Each master of a vessel, person in charge of a barge, owner, operator, shipper, charterer, or agent must ensure compliance with this part. These persons are also responsible for communicating requirements to every person performing any function covered by this part.

§ 148.3 Definitions.

As used in this part—

A-60 class division means a division as defined in § 32.57-5 of this chapter.

Adjacent space means any enclosed space on a vessel, such as a cargo hold, cargo compartment, accommodation space, working space, storeroom, passageway, or tunnel, that shares a common bulkhead or deck with a hatch, door, scuttle, cable fitting or other penetration, with a cargo hold or compartment containing a material listed in Table 148.10 of this part.

Away from means a horizontal separation of at least 3 meters (10 feet) projected vertically is maintained between incompatible materials carried in the same hold or on deck.

Bulk applies to any solid material, consisting of a combination of particles, granules, or any larger pieces of material generally uniform in composition, that is loaded directly into the cargo spaces of a vessel without any intermediate form of containment.

Bulk Cargo Shipping Name or BCSN identifies a bulk solid material during transport by sea. When a cargo is listed in this Part, the BCSN of the cargo is identified by Roman type and is listed in Column 1 of Table 148.10 of this part. When the cargo is a hazardous material, as defined in 49 CFR part 173, the proper shipping name of that material is the BCSN.

Cold-molded briquettes are briquettes of direct reduced iron (DRI) that have been molded at a temperature of under 650 ° C (1,202 °F) or that have a density of under 5.0 g/cm³.

Commandant (CG-5223) means the Chief, Hazardous Materials Standards Division of the Office of Operating and Environmental Standards, United States Coast Guard, 2100 2nd St., SW., Stop 7126, Washington, DC 20593-7126. CG-5223 can be contacted at 202-372-1420 or Hazmat@comdt.uscg.mil.

Compartment means any space on a vessel that is enclosed by the vessel's decks and its sides or permanent steel bulkheads.

Competent authority means a national agency responsible under its national law for the control or regulation of a particular aspect of the transportation of hazardous materials.

Confined space means a cargo hold containing a material listed in Table 148.10 of this part or an adjacent space not designed for human occupancy.

Domestic voyage means transportation between places within the United States other than through a foreign country.

Hazard class means the category of hazard assigned to a material under this part and 49 CFR parts 171 through 173.

Hazard Class Definitions

Hazard Classes Used in This Part Are Defined in the Following Sections of Title 49
Class No. | Division No. (if any) | Description | Reference (49 CFR)
1 | 1.1, 1.2, 1.3, 1.4, 1.5, 1.6 | Explosives | § 173.50
2 | 2.1, 2.2, 2.3 | Flammable Gas, Non-Flammable Compressed Gas, Poisonous Gas | § 173.115
3 |  | Flammable and Combustible Liquid | § 173.120
4 | 4.1, 4.2, 4.3 | Flammable Solid, Spontaneously Combustible Material, Dangerous When Wet Material | § 173.124
5 | 5.1 | Oxidizer | § 173.127
5 | 5.2 | Organic Peroxide | § 173.128
6 | 6.1 | Poisonous Materials | § 173.132
6 | 6.2 | Infectious Substance | § 173.134
7 |  | Radioactive Material | § 173.403
8 |  | Corrosive Material | § 173.136
9 |  | Miscellaneous Hazardous Material | § 173.140

Hazardous substance is a hazardous substance as defined in 49 CFR 171.8.

Hold means a compartment below deck that is used exclusively for the stowage of cargo.

Hot-molded briquettes are briquettes of DRI that have been molded at a temperature of 650 °C (1,202 °F) or higher, and that have a density of 5.0 g/cm³ (312 lb/ft³) or greater.

IMSBC Code means the English version of the “International Maritime Solid Bulk Cargoes Code” published by the International Maritime Organization (incorporated by reference, see § 148.8).

Incompatible materials means two materials whose stowage together may result in undue hazards in the case of leakage, spillage, or other accident.

International voyage means voyages—

(1) Between any place in the United States and any place in a foreign country;

(2) Between places in the United States through a foreign country; or

(3) Between places in one or more foreign countries through the United States.

Lower flammability limit or LFL means the lowest concentration of a material or gas that will propagate a flame. The LFL is usually expressed as a percent by volume of a material or gas in air.

Master means the officer having command of a vessel. The functions assigned to the master in this part may also be performed by a representative of the master or by a person in charge of a barge.

Material safety data sheet or MSDS is as defined in 29 CFR 1910.1200.

Person in charge of a barge means an individual designated by the owner or operator of a barge to have charge of the barge.

Potentially Dangerous Material or PDM means a material that does not fall into a particular hazard class but can present a danger when carried in bulk aboard a vessel. The dangers often result from the material's tendency to self-heat or cause oxygen depletion. Materials that present a potential danger due solely to their tendency to shift in the cargo hold are not PDMs. For international shipments prepared in accordance with the IMSBC Code (incorporated by reference, see § 148.8), equivalent terminology to PDM is Material Hazardous only in Bulk (MHB).

Readily combustible material means a material that may not be a hazardous material but that can easily ignite and support combustion. Examples are wood, straw, vegetable fibers, and products made from these materials, and coal lubricants and oils. The term does not include packaging material or dunnage.

Reportable quantity or RQ means the quantity of a hazardous substance spilled or released that requires a report to the National Response Center. The specific RQs for each hazardous substance are available in 49 CFR 172.101, Appendix A.

Responsible person means a knowledgeable person who the master of a vessel or owner or operator of a barge makes responsible for all decisions relating to his or her specific task.

Seed cake means the residue remaining after vegetable oil has been extracted by a solvent or mechanical process from oil-bearing seeds, such as coconuts, cotton seed, peanuts, and linseed.

Shipper means any person by whom, or in whose name, or on whose behalf, a contract of carriage of goods by sea has been concluded with a carrier; or any person by whom or in whose name, or on whose behalf, the goods are actually delivered to the carrier in relation to the contract of carriage by sea.

Shipping paper means a shipping order, bill of lading, manifest, or other shipping document serving a similar purpose.

Stowage factor means the volume in cubic meters of 1,000 kilograms (0.984 long tons) of a bulk solid material.

Threshold limit value or TLV means the time-weighted average concentration of a material that the average worker can be exposed to over a normal eight-hour working day, day after day, without adverse effect. This is a trademark term of the American Conference of Governmental Industrial Hygienists (ACGIH).

Transported includes the various operations associated with cargo transportation, such as loading, off-loading, handling, stowing, carrying, and conveying.

Trimming means any leveling of a cargo within a cargo hold or compartment, either partial or total.

Tripartite agreement means an agreement between the national administrations of the port of loading, the port of discharge, and the flag state of the vessel, on the conditions of carriage of a cargo.

Ventilation means exchange of air from outside to inside a cargo space and includes the following types:

(1) Continuous ventilation means ventilation that is operating at all times. Continuous ventilation may be either natural or mechanical;

(2) Mechanical ventilation means power-generated ventilation;

(3) Natural ventilation means ventilation that is not power-generated; and

(4) Surface ventilation means ventilation of the space above the cargo. Surface ventilation may be either natural or mechanical.

Vessel means a cargo ship or barge.

§ 148.5 Alternative procedures.

(a) The Commandant (CG-5223) may authorize the use of an alternative procedure, including exemptions to the IMSBC Code (incorporated by reference, see § 148.8), in place of any requirement of this part if it is demonstrated to the satisfaction of the Coast Guard that the requirement is impracticable or unnecessary and that an equivalent level of safety can be maintained.

(b) Each request for authorization of an alternative procedure must—

(1) Be in writing;

(2) Name the requirement for which the alternative is requested; and

(3) Contain a detailed explanation of—

(i) Why the requirement is impractical or unnecessary; and

(ii) How an equivalent level of safety will be maintained.

§ 148.7 OMB control numbers assigned under the Paperwork Reduction Act.

The information collection requirements in this part are approved by the Office of Management and Budget, and assigned OMB control number 1625-0025.

§ 148.8 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the U.S. Coast Guard Hazardous Materials Standards Division (CG-5223), 2100 2nd St., SW., Stop 7126, Washington, DC 20593-7126, and is available from the sources listed below.

(b) International Maritime Organization (IMO), 4 Albert Embankment, London SE1 7SR, United Kingdom, +44 (0)20 7735 7611, http://www.imo.org.

(1) International Maritime Solid Bulk Cargoes Code and Supplement, 2009 edition (“IMSBC Code”), incorporation by reference, excluding supplemental materials, approved for §§ 148.3; 148.5(a); 148.15(d); 148.55(b); 148.205(b); 148.220(b) and (c); 148.240(h); 148.450(a), (d), and (g).

(2) [Reserved]

(c) United Nations Publications, 2 United Nations Plaza, Room DC2-853, Dept. C089, New York, NY 10017, (800) 253-9646, http://unp.un.org.

(1) Recommendations on the Transport of Dangerous Goods, Manual of Tests and Criteria, Fifth revised edition (2009) (“UN Manual of Tests and Criteria”), incorporation by reference approved for §§ 148.205(b); 148.220(b) and (c).

(2) [Reserved]

§ 148.9 Right of appeal.

Any person directly affected by enforcement of this part by or on behalf of the Coast Guard may appeal the decision or action under Subpart 1.03 of this chapter.

§ 148.10 Permitted materials.

(a) A material listed in Table 148.10 of this section may be transported as a bulk solid cargo on a vessel if it is carried according to this part. A material that is not listed in Table 148.10 of this section, but which is hazardous or a Potentially Dangerous Material (PDM), requires a Special Permit under § 148.15 of this part to be transported on the navigable waters of the United States.

(b) For each listed material, Table 148.10 identifies the hazard class and gives the BCSN or directs the user to the preferred BCSN. In addition, the table lists specific hazardous or potentially dangerous characteristics associated with each material and specifies or references detailed special requirements in this part pertaining to the stowage or transport of specific bulk solid materials. The column descriptions for Table 148.10 are defined as follows:

(1) Column 1: Bulk Solid Material Descriptions and Bulk Cargo Shipping Names (BCSN). Column 1 lists the bulk solid material descriptions and the BCSNs of materials designated as hazardous or PDM. BCSNs are limited to those shown in Roman type. Trade names and additional descriptive text are shown in italics.

(2) Column 2: I.D. Number. Column 2 lists the identification number assigned to each BCSN associated with a hazardous material. Those preceded by the letters “UN” are associated with BCSNs considered appropriate for international voyages as well as domestic voyages. Those preceded by the letters “NA” are associated with BCSNs not recognized for international voyages, except to and from Canada.

(3) Column 3: Hazard Class or Division. Column 3 designates the hazard class or division, or PDM, as appropriate, corresponding to each BCSN.

(4) Column 4: References. Column 4 refers the user to the preferred BCSN corresponding to bulk solid material descriptions listed in Column 1.

(5) Column 5: Hazardous or Potentially Dangerous Characteristics. Column 5 specifies codes for hazardous or potentially dangerous characteristics applicable to specific hazardous materials or PDMs. Refer to § 148.11 of this part for the meaning of each code.

(6) Column 6: Other Characteristics. Column 6 contains other pertinent characteristics applicable to specific bulk solid materials listed in Column 1.

(7) Column 7: Special Requirements. Column 7 specifies the applicable sections of Part 148 of this chapter that contain detailed special requirements pertaining to stowage and/or transportation of specific bulk solid materials in this part. This column is completed in a manner which indicates that “§ 148.” precedes the designated numerical entry.

(c) The following requirements apply to combinations of bulk solids carried at the same time and in the same compartment or hold:

Combinations of bulk solid materials | Requirements
(1) Material listed in Table 148.10 carried with any other non-hazardous bulk solid material | Requirements specified in Table 148.10 for the listed material.
(2) Material carried under Special Permit with any non-hazardous bulk solid material | Requirements specified in the Special Permit.
(3) Two or more materials listed in Table 148.10 | Must apply for a Special Permit.

(d) An owner, agent, master, operator, or person in charge of a vessel or barge carrying materials listed in Table 148.10 of this section must follow the requirements contained in 46 CFR part 4 for providing notice and reporting of marine casualties and retaining voyage records.

Table 148.10—Bulk Solid Hazardous Materials Table
Bulk solid material descriptions and bulk cargo shipping names | I.D. No. | Hazard class or division | References | Hazardous or potentially dangerous characteristics (see § 148.11) | Other characteristics | Special requirements (§ 148.* * *)
(1) | (2) | (3) | (4) | (5) | (6) | (7)
Aluminum Ferrosilicon Powder | UN1395 | 4.3, 6.1 |  | 2, 3 | Fine powder or briquettes | 135, 255, 405(b), 407, 415(a) & (e), 420(b), 445
Aluminum Nitrate | UN1438 | 5.1 |  | 4 | Colorless or white crystals | 140
Aluminum Silicon Powder, Uncoated | UN1398 | 4.3 |  | 2, 3 |  | 135, 255, 405(b), 407 415(a) & (e), 420(b), 445
Aluminum Smelting By-products or Aluminum Re-melting Byproducts | UN3170 | 4.3 |  | 1, 2, 3 | Includes aluminum dross, residues, spent cathodes, spent potliner, and skimmings | 135, 405(b), 420(b), 445
Ammonium Nitrate | UN1942 | 5.1 |  | 5, 27 |  | 140, 205, 405(a), 407, 410
Ammonium Nitrate Based Fertilizer | UN2067 | 5.1 |  | 5, 27 |  | 140, 205, 405(a), 407, 410
Ammonium Nitrate Based Fertilizer | UN2071 | 9 |  | 6 | Nitrogen, Phosphate, or Potash | 140, 220, 405(a), 407
Barium Nitrate | UN1466 | 5.1, 6.1 |  | 4, 7 |  | 140
Brown Coal Briquettes |  | PDM |  | 11, 12, 14, 25 |  | 155, 240, 405(b), 407, 415(b), 420(a), 445
Calcium fluoride |  |  | See Fluorospar |  |  |
Calcium Nitrate | UN1454 | 5.1 |  | 4 | White crystals or powder | 140, 227
Calcium Oxide |  |  | See Lime, Unslaked |  |  |
Castor Beans | UN2969 | 9 |  | 10 | Whole beans | 150, 235
Charcoal |  | PDM |  | 1, 11, 12 | Screenings, briquettes | 155
Chili Saltpeter |  |  | See Sodium Nitrate |  |  |
Chilean Natural Nitrate |  |  | See Sodium Nitrate |  |  |
Coal |  | PDM |  | 11, 12, 13, 14, 25 |  | 155, 240, 405(b), 407, 415(b), 420(a) & (c), 445, 450
Copra | UN1363 | 4.2 |  | 11, 12 | Dry | 130, 242
Direct reduced iron (A) with not more than 5% fines |  | PDM |  | 1, 2, 12 | Hot-molded briquettes | 155, 250, 420(b)
Direct reduced iron (B) with not more than 5% fines |  | PDM |  | 1, 2, 12 | Lumps, pellets, and cold-molded briquettes | 155, 245, 405(b), 407, 420(b), 445
Environmentally Hazardous Substances, Solid, n.o.s. | UN3077 | 9 | Hazardous substances listed in 40 CFR part 302 | 15 |  | 150, 270
Ferrophosphorous |  | PDM |  | 2, 3 | Including briquettes | 155, 415(e), 445
Ferrosilicon with 30-90% silicon | UN1408 | 4.3, 6.1 |  | 2, 3 |  | 135, 255, 405(b), 407, 415(a) & (e), 420(b), 445
Ferrosilicon with 25%-30% silicon or 90% or more silicon |  | PDM |  |  |  | 155, 255, 405(b), 407, 415 (a) & (e), 420(b), 445
Ferrous Sulfate |  |  | See Environmentally Hazardous Substances, Solid, n.o.s |  |  |
Ferrous Metal Borings, Shavings, Turnings, or Cuttings | UN2793 | 4.2 |  | 11, 12 |  | 130, 260
Fish Meal Stabilized or Fish Scrap, Stabilized | UN2216 | 9 |  | 11, 12 | Ground and pelletized (mixture), anti-oxidant treated | 150, 265
Fluorospar |  | PDM |  | 8, 24 |  | 155, 440(a), 450
Garbage Tankage |  |  | See Tankage |  |  |
Iron Oxide, Spent or Iron Sponge, Spent | UN1376 | 4.2 |  | 3, 11, 12, 14 |  | 130, 275, 415(c), (d) & (f), 445
Iron Swarf |  |  | See Ferrous Metal Borings, Shavings, Turnings, or Cuttings |  |  |
Lead Nitrate | UN1469 | 5.1, 6.1 |  | 4, 7, 22, 26 |  | 140, 270
Lignite |  |  | See Brown Coal Briquettes |  |  |
Lime, Unslaked |  | PDM |  | 1 |  | 155, 230
Linted Cotton Seed containing not more than 9% moisture and not more than 20.5% oil |  | PDM |  | 11, 12 |  | 155
Magnesia, Unslaked |  | PDM |  | 1 | Lightburned magnesia, calcined magnesite | 155, 280
Magnesium Nitrate | UN1474 | 5.1 |  | 4 |  | 140
Metal Sulfide Concentrates |  | PDM |  | 8, 11, 12, 22, 24 | Solid, finely divided sulfide concentrates of copper, iron, lead, nickel, zinc, or other metalliferous ores | 155, 285, 450
Peat Moss with moisture content of more than 65% by weight |  | PDM |  | 8, 12, 13, 14, 24 | Fine to coarse fibrous structure | 155, 290, 450
Pencil Pitch |  |  | See Pitch Prill |  |  |
Petroleum Coke calcined or uncalcined at > 55 °C (131 °F) |  | PDM |  | 11 |  | 155, 295
Pitch Prill |  | PDM |  | 14, 16 |  | 155
Potassium Nitrate | UN1486 | 5.1 |  | 4 |  | 140
Prilled Coal Tar |  |  | See Pitch Prill |  |  |
Pyrites, Calcined |  | PDM |  | 8, 9, 24 | Fly ash | 155, 225, 450
Pyritic ash |  |  | See Pyrites, Calcined |  |  |
Quicklime |  |  | See Lime, Unslaked |  |  |
Radioactive Material | UN2912 | 7 |  | 17 | Low specific activity | 145, 300
Radioactive Material | UN2913 | 7 |  | 17 | Surface contaminated objects | 145, 300
Rough Ammonia Tankage |  |  | See Tankage |  |  |
Saltpeter |  |  | See Potassium Nitrate |  |  |
Sawdust |  | PDM |  | 12, 18 |  | 155, 405(a), 407
Seed Cake | UN1386 | 4.2 |  | 12, 19 | Mechanically expelled or solvent extractions | 130, 310
Seed Cake | UN2217 | 4.2 |  | 12, 19 | Solvent extractions | 130, 310
Silicomanganese with silicon content of 25% or more |  | PDM |  | 2, 3, 12 | With known hazard profile or known to evolve gases | 155, 405(b), 407, 415(a) & (d), 420(b), 445
Sodium Nitrate | UN1498 | 5.1 |  | 4 |  | 140
Sodium Nitrate and Potassium Nitrate Mixture | UN1499 | 5.1 |  | 4 | Mixtures prepared as fertilizer | 140
Steel Swarf |  |  | See Ferrous Metal Borings, Shavings, Turnings, or Cuttings |  |  |
Sulfur | UN1350 | 4.1 |  | 14, 20 | Lumps or coarse-grained powder | 125, 315, 405(a), 407, 435
Sulfur | NA1350 | 9 |  | 14, 20 | Not subject to the requirements of this subchapter when formed into specific shapes (i.e., prills, granules, pellets, pastiles, or flakes) | 125, 315, 405(a), 407, 435
Tankage |  | PDM |  | 11 |  | 155, 320
Tankage Fertilizer |  |  | See Tankage |  |  |
Vanadium Ore |  | PDM |  | 21 |  | 155
Wood chips, Wood Pellets, Wood Pulp Pellets |  | PDM |  | 12 |  | 155, 325
Zinc Ashes | UN1435 | 4.3 |  | 2, 3, 23 | Includes zinc dross, residues, and skimmings | 135, 330, 405(b), 407, 420(b), 435, 445

§ 148.11 Hazardous or potentially dangerous characteristics.

(a) General. When Column 5 refers to a code for a hazardous material or PDM, the meaning of that code is set forth in this section.

(b) Table of Hazardous or Potentially Dangerous Characteristics.

Code | Hazardous or potentially dangerous characteristic
1 | Contact with water may cause heating.
2 | Contact with water may cause evolution of flammable gases, which may form explosive mixtures with air.
3 | Contact with water may cause evolution of toxic gases.
4 | If involved in a fire, will greatly intensify the burning of combustible materials.
5 | A major fire aboard a vessel carrying this material may involve a risk of explosion in the event of contamination (e.g., by a fuel oil) or strong confinement. If heated strongly will decompose, giving off toxic gases that support combustion.
6 | These mixtures may be subject to self-sustaining decomposition if heated. Decomposition, once initiated, may spread throughout the remainder, producing gases that are toxic.
7 | Toxic if swallowed and by dust inhalation.
8 | Harmful and irritating by dust inhalation.
9 | Highly corrosive to steel.
10 | Powerful allergen. Toxic by ingestion. Skin contact or inhalation of dust may cause severe irritation of skin, eyes, and mucous membranes in some people.
11 | May be susceptible to spontaneous heating and ignition.
12 | Liable to cause oxygen depletion in the cargo space.
13 | Liable to emit methane gas which can form explosive mixtures with air.
14 | Dust forms explosive mixtures with air.
15 | May present substantial danger to the public health or welfare or the environment when released into the environment. Skin contact and dust inhalation should be avoided.
16 | Combustible. Burns with dense black smoke. Dust may cause skin and eye irritation.
17 | Radiation hazard from dust inhalation and contact with mucous membranes.
18 | Susceptible to fire from sparks and open flames.
19 | May self-heat slowly and, if wet or containing an excessive proportion of unoxidized oil, ignite spontaneously.
20 | Fire may produce irritating or poisonous gases.
21 | Dust may contain toxic constituents.
22 | Lead nitrate and lead sulfide are hazardous substances; see code 15 of this table and § 148.270.
23 | Hazardous substance when consisting of pieces having a diameter less than 100 micrometers (0.004 in.); see code 15 of this table and § 148.270.
24 | Cargo subject to liquefaction.
25 | Subject to liquefaction if average particle size of cargo is less than 10 mm (.394 in.).
26 | This entry is considered a Marine Pollutant in accordance with 49 CFR 172.101 Appendix B.
27 | This entry is considered a certain dangerous cargo in accordance with 33 CFR 160.204.

§ 148.12 Assignment and certification.

(a) The National Cargo Bureau is authorized to assist the Coast Guard in administering the provisions of this part by—

(1) Inspecting vessels for suitability for loading solid materials in bulk;

(2) Examining stowage of solid materials loaded in bulk on board vessels;

(3) Making recommendations on stowage requirements applicable to the transportation of solid materials in bulk; and

(4) Issuing certificates of loading that verify stowage of the solid material in bulk meets requirements of this part.

(b) Certificates of loading from the National Cargo Bureau are accepted as evidence of compliance with bulk solid transport regulations.

Subpart B—Special Permits

§ 148.15 Petition for a special permit.

(a) Each shipper who wishes to ship a bulk solid material not listed in Table 148.10 of this part must determine whether the material meets the definition of any hazard class, or the definition of a PDM, as those terms are defined in § 148.3 of this part.

(b) If the material meets any of the definitions described in paragraph (a) of this section, the shipper then must submit a petition in writing to the Commandant (CG-5223) for authorization to ship any hazardous material or PDM not listed in Table 148.10 of this part.

(c) If the Commandant (CG-5223) approves a petition for authorization, the Commandant (CG-5223) issues the petitioner a Coast Guard special permit. The permit allows the material to be transported in bulk by vessel and outlines requirements for this transport.

(d) A tripartite agreement developed in conjunction with the United States and in accordance with the IMSBC Code (incorporated by reference, see § 148.8) may be used in lieu of a special permit.

§ 148.20 Deadlines for submission of petition and related requests.

(a) A petition for a special permit must be submitted at least 45 days before the requested effective date. Requests for extension or renewal of an existing special permit must be submitted 20 days before the date of expiration.

(b) Requests for extension or renewal must include the information required under § 148.21(a), (f), and (g) of this part.

§ 148.21 Necessary information.

Each petition for a special permit must contain at least the following:

(a) A description of the material, including, if a hazardous material—

(1) The proper shipping name from the table in 49 CFR 172.101;

(2) The hazard class and division of the material; and

(3) The identification number of the material.

(b) A material safety data sheet (MSDS) for the material or—

(1) The chemical name and any trade names or common names of the material;

(2) The composition of the material, including the weight percent of each constituent;

(3) Physical data, including color, odor, appearance, melting point, and solubility;

(4) Fire and explosion data, including auto-ignition temperature, any unusual fire or explosion hazards, and any special fire fighting procedures;

(5) Health hazards, including any dust inhalation hazards and any chronic health effects;

(6) The threshold limit value (TLV) of the material or its major constituents, if available, and any relevant toxicity data;

(7) Reactivity data, including any hazardous decomposition products and any incompatible materials; and

(8) Special protection information, including ventilation requirements and personal protection equipment required.

(c) Other potentially dangerous characteristics of the material not covered by paragraph (b) of this section, including—

(1) Self-heating;

(2) Depletion of oxygen in the cargo space;

(3) Dust explosion; and

(4) Liquefaction.

(d) A detailed description of the proposed transportation operation, including—

(1) The type of vessel proposed for water movements;

(2) The expected loading and discharge ports, if known;

(3) Procedures to be used for loading and unloading the material;

(4) Precautions to be taken when handling the material; and

(5) The expected temperature of the material at the time it will be loaded on the vessel.

(e) Test results (if required under Subpart E of this part).

(f) Previous approvals or permits.

(g) Any relevant shipping or accident experience (or any other relevant transportation history by any mode of transport).

§ 148.25 Activities covered by a special permit.

(a) Each special permit covers any shipment of the permitted material by the shipper and also covers for each shipment—

(1) Each transfer operation;

(2) Each vessel involved in the shipment; and

(3) Each individual involved in any cargo handling operation.

(b) Each special permit is valid for a period determined by the Commandant (CG-5223) and specified in the special permit. The period will not exceed 4 years and is subject to suspension or revocation before its expiration date.

§ 148.26 Standard conditions for special permits.

(a) Each special permit holder must comply with all the requirements of this part unless specifically exempted by the terms of the special permit.

(b) Each special permit holder must provide a copy of the special permit and the information required in § 148.60 of this part to the master or person in charge of each vessel carrying the material.

(c) The master of a vessel transporting a special permit material must ensure that a copy of the special permit is on board the vessel. The special permit must be kept with the dangerous cargo manifest if such a manifest is required by § 148.70 of this part.

(d) The person in charge of a barge transporting any special permit material must ensure that a copy of the special permit is on board the tug or towing vessel. When the barge is moored, the special permit must be kept on the barge with the shipping papers as prescribed in § 148.62 of this part.

§ 148.30 Records of special permits issued.

A list of all special permits issued, and copies of each, are available from the Commandant (CG-5223).

Subpart C—Minimum Transportation Requirements

§ 148.50 Cargoes subject to this subpart.

The regulations in this subpart apply to each bulk shipment of—

(a) A material listed in Table 148.10 of this part; and

(b) Any solid material shipped under the terms of a Coast Guard special permit.

§ 148.51 Temperature readings.

When Subpart D of this part sets a temperature limit for loading or transporting a material, apply the following rules:

(a) The temperature of the material must be measured 20 to 36 centimeters (8 to 14 inches) below the surface at 3 meter (10 foot) intervals over the length and width of the stockpile or cargo hold.

(b) The temperature must be measured at every spot in the stockpile or cargo hold that shows evidence of heating.

(c) Before loading or transporting the material, all temperatures measured must be below the temperature limit set in Subpart D of this part.

§ 148.55 International shipments.

(a) Importer's responsibility. Each person importing any bulk solid material requiring special handling into the United States must provide the shipper and the forwarding agent at the place of entry into the United States with timely and complete information as to the requirements of this part that will apply to the shipment of the material within the United States.

(b) IMSBC Code. Notwithstanding the provisions of this part, a bulk solid material that is classed, described, stowed, and segregated in accordance with the IMSBC Code (incorporated by reference, see § 148.8), and otherwise conforms to the requirements of this section, may be offered and accepted for transportation and transported within the United States. The following conditions and limitations apply:

(1) A bulk solid material that is listed in Table 148.10 of this part, but is not subject to the requirements of the IMSBC Code, may not be transported under the provisions of this section and is subject to the requirements of this part. Examples of such materials include environmentally hazardous substances, solid, n.o.s.

(2) Zinc Ashes must conform to the requirements found in § 148.330 of this part.

(3) Exemptions granted by other competent authorities in accordance with the IMSBC Code must be approved by the Commandant (CG-5223) in accordance with § 148.5 of this part.

(4) Tripartite agreements granted by other competent authorities in accordance with the IMSBC Code must be authorized for use in the United States by the Commandant (CG-5223).

§ 148.60 Shipping papers.

The shipper of a material listed in Table 148.10 of this part must provide the master or his representative with appropriate information on the cargo in the form of a shipping paper, in English, prior to loading. Information on the shipping paper must include the following:

(a) The appropriate BCSN. Secondary names may be used in addition to the BCSN;

(b) The identification number, if applicable;

(c) The hazard class of the material as listed in Table 148.10 of this part or on the Special Permit for the material;

(d) The total quantity of the material to be transported;

(e) The stowage factor;

(f) The need for trimming and the trimming procedures, as necessary;

(g) The likelihood of shifting, including angle of repose, if applicable;

(h) A certificate on the moisture content of the cargo and its transportable moisture limit for cargoes that are subject to liquefaction;

(i) Likelihood of formation of a wet base;

(j) Toxic or flammable gases that may be generated by the cargo, if applicable;

(k) Flammability, toxicity, corrosiveness, and propensity to oxygen depletion of the cargo, if applicable;

(l) Self-heating properties of the cargo, if applicable;

(m) Properties on emission of flammable gases in contact with water, if applicable;

(n) Radioactive properties, if applicable;

(o) The name and address of the U.S. shipper (consignor) or, if the shipment originates in a foreign country, the U.S. consignee.

(p) A certification, signed by the shipper, that bears the following statement: “This is to certify that the above named material is properly named, prepared, and otherwise in proper condition for bulk shipment by vessel in accordance with the applicable regulations of the U.S. Coast Guard.”

§ 148.61 Emergency response information.

The shipper of a material listed in Table 148.10 of this part must provide the master or his representative with appropriate emergency response information. This information may be included on the shipping papers or in a separate document such as a material safety data sheet (MSDS). The information must include preliminary first aid measures and emergency procedures to be carried out in the event of an incident or fire involving the cargo.

§ 148.62 Location of shipping papers and emergency response information.

(a) The shipping paper and emergency response information required by §§ 148.60 and 148.61 of this part must be kept on board the vessel along with the dangerous cargo manifest required by § 148.70 of this part. When the shipment is by unmanned barge the shipping papers and emergency response information must be kept on the tug or towing vessel. When an unmanned barge is moored, the shipping paper and emergency response information must be on board the barge in a readily retrievable location.

(b) Any written certification or statement from the shipper to the master of a vessel or to the person in charge of a barge must be on, or attached to, the shipping paper. See Subparts E and F of this part for required certifications.

§ 148.70 Dangerous cargo manifest; general.

(a) Except as provided in paragraph (b) of this section and in § 148.72 of this part, each vessel transporting materials listed in Table 148.10 of this part must have a dangerous cargo manifest on board.

(b) This document must be kept in a designated holder on or near the vessel's bridge. When required for an unmanned barge, the document must be on board the tug or towing vessel.

§ 148.71 Information included in the dangerous cargo manifest.

The dangerous cargo manifest must include the following:

(a) The name and official number of the vessel. If the vessel has no official number, the international radio call sign must be substituted;

(b) The nationality of the vessel;

(c) The name of the material as listed in Table 148.10 of this part;

(d) The hold or cargo compartment in which the material is being transported;

(e) The quantity of material loaded in each hold or cargo compartment; and

(f) The signature of the master acknowledging that the manifest is correct, and the date of the signature.

§ 148.72 Dangerous cargo manifest; exceptions.

(a) No dangerous cargo manifest is required for—

(1) Shipments by unmanned barge, except on an international voyage; and

(2) Shipments of materials designated as potentially dangerous materials in Table 148.10 of this part.

(b) When a dangerous cargo manifest is required for an unmanned barge on an international voyage, § 148.71(d) of this part does not apply, unless the barge has more than one cargo compartment.

§ 148.80 Supervision of cargo transfer.

The master must ensure that cargo transfer operations are supervised by a responsible person as defined in § 148.3 of this part.

§ 148.85 Required equipment for confined spaces.

When transporting a material that is listed in Table 148.10 of this part, each vessel, other than an unmanned barge, must have on board the following:

(a) Equipment capable of measuring atmospheric oxygen. At least two members of the crew must be knowledgeable in the use of the equipment, which must be maintained in a condition ready for use and calibrated according to the manufacturer's instructions.

(b) At least two self-contained, pressure-demand-type, air breathing apparatus approved by the Mine Safety and Health Administration (MSHA) or the National Institute for Occupational Safety and Health (NIOSH), each having at least a 30-minute air supply. Each foreign flag vessel must have on board at least two such apparatus that are approved by the flag state administration. The master must ensure that the breathing apparatus is used only by persons trained in its use.

§ 148.86 Confined space entry.

(a) Except in an emergency, no person may enter a confined space unless that space has been tested to ensure there is sufficient oxygen to support life. If the oxygen content is below 19.5 percent, the space must be ventilated and retested before entry.

(b) In an emergency, a confined space may be entered by a trained person wearing self-contained breathing apparatus, suitable protective clothing as necessary, and a wire rope safety line tended by a trained person outside the hold or in an adjacent space. Emergency entry into a confined space must be supervised by a responsible person as defined in § 148.3 of this part.

§ 148.90 Preparations before loading.

Before loading any material listed in Table 148.10 of this part, in bulk on board a vessel, the following conditions must be met:

(a) If a hold previously has contained any material required under Subpart D of this part to be segregated from the material to be loaded, the hold must be thoroughly cleaned of all residue of the previous cargoes.

(b) If the material to be loaded is Class 4.1, 4.2, or 5.1, then all combustible materials must be removed from the hold. Examples of some combustible materials are residue of previous cargoes, loose debris, and dunnage. Permanent wooden battens or sheathing may remain in the hold unless forbidden by Subpart E of this part.

(c) If the material to be loaded is classified as Class 4.3, or is subject to liquefaction, the hold and associated bilge must be as dry as practicable.

§ 148.100 Log book entries.

During the transport in bulk of a material listed in Table 148.10 of this part, the master must keep a record of each temperature measurement and each test for toxic or flammable gases required by this part. The date and time of each measurement and test must be recorded in the vessel's log.

§ 148.110 Procedures followed after unloading.

(a) After a material covered by this part has been unloaded from a vessel, each hold or cargo compartment must be thoroughly cleaned of all residue of such material unless the hold is to be reloaded with that same cargo.

(b) When on U.S. territorial seas or inland waters, cargo associated wastes, cargo residue, and deck sweepings must be retained on the vessel and disposed of in accordance with 33 CFR parts 151.51 through 151.77.

§ 148.115 Report of incidents.

(a) When a fire or other hazardous condition occurs on a vessel transporting a material covered by this part, the master must notify the nearest Captain of the Port as soon as possible and comply with any instructions given.

(b) Any incident or casualty occurring while transporting a material covered by this part must also be reported as required under 49 CFR 171.15, if applicable. A copy of the written report required under 49 CFR 171.16 must also be sent to the Commandant (CG-5223), U.S. Coast Guard, 2100 2nd St., SW., Stop 7126, Washington, DC 20593-7126, at the earliest practicable moment.

(c) Any release to the environment of a hazardous substance in a quantity equal to or in excess of its reportable quantity (RQ) must be reported immediately to the National Response Center at (800) 424-8802 (toll free) or (202) 267-2675.

Subpart D—Stowage and Segregation

§ 148.120 Stowage and segregation requirements.

(a) Each material listed in Table 148.10 of this part must be segregated from incompatible materials in accordance with—

(1) The requirements of Tables 148.120A and 148.120B of this section that pertain to the primary or subsidiary hazard class to which the materials belong. Whenever a subsidiary hazard may exist, the most stringent segregation requirement applies; and

(2) Any specific requirements in Subpart D of this part.

(b) Materials that are required to be separated during stowage must not be handled at the same time. Any residue from a material must be removed before a material required to be separated from it is loaded.

(c) Definitions and application of segregation terms:

(1) “Separated from” means located in different cargo compartments or holds when stowed under deck. If the intervening deck is resistant to fire and liquid, a vertical separation, i.e., in different cargo compartments, is acceptable as equivalent to this segregation.

(2) “Separated by a complete cargo compartment or hold from” means either a vertical or horizontal separation, for example, by a complete cargo compartment or hold. If the intervening decks are not resistant to fire and liquid, only horizontal separation is acceptable.

(3) “Separated longitudinally by an intervening complete cargo compartment or hold from” means that vertical separation alone does not meet this requirement.

Table 148.120A—Segregation Between Incompatible Bulk Solid Cargoes
Bulk solid materials | Class | 4.1 | 4.2 | 4.3 | 5.1 | 6.1 | 7 | 8 | 9/PDM
Flammable solid | 4.1 | X |  |  |  |  |  |  |
Spontaneously combustible material | 4.2 | 2 | X |  |  |  |  |  |
Dangerous when wet material | 4.3 | 3 | 3 | X |  |  |  |  |
Oxidizer | 5.1 | 3 | 3 | 3 | X |  |  |  |
Poisonous material | 6.1 | X | X | X | 2 | X |  |  |
Radioactive material | 7 | 2 | 2 | 2 | 2 | 2 | X |  |
Corrosive material | 8 | 2 | 2 | 2 | 2 | X | X | X |
Miscellaneous hazardous material and potential dangerous material | 9/PDM | X | X | X | X | X | 2 | X | X
Numbers and symbols indicate the following terms as defined in § 148.3 of this part:
2—“Separated from”.
3—“Separated by a complete hold or compartment from”.
X—No segregation required, except as specified in an applicable section of this subpart or Subpart E of this part.

Table 148.120B—Segregation Between Bulk Solid Cargoes and Incompatible Packaged Cargoes
Packaged hazardous material | Bulk solid material: Class | Bulk solid material: 4.1 | Bulk solid material: 4.2 | Bulk solid material: 4.3 | Bulk solid material: 5.1 | Bulk solid material: 6.1 | Bulk solid material: 7 | Bulk solid material: 8 | Bulk solid material: 9/PDM
Explosives | 1.1 1.2 1.5 | 4 | 4 | 4 | 4 | 2 | 2 | 4 | X
Explosives | 1.3 1.6 | 3 | 3 | 4 | 4 | 2 | 2 | 2 | X
Explosives | 1.4 | 2 | 2 | 2 | 2 | X | 2 | 2 | X
Flammable gas | 2.1 | 2 | 2 | 1 | 2 | X | 2 | 2 | X
Non-flammable compressed gas | 2.2 | 2 | 2 | X | X | X | 2 | 1 | X
Poisonous gas | 2.3 | 2 | 2 | X | X | X | 2 | 1 | X
Flammable liquid | 3 | 2 | 2 | 2 | 2 | X | 2 | 1 | X
Flammable solid | 4.1 | X | 1 | X | 1 | X | 2 | 1 | X
Spontaneously combustible material | 4.2 | 1 | X | 1 | 2 | 1 | 2 | 1 | X
Dangerous when wet material | 4.3 | X | 1 | X | 2 | X | 2 | 1 | X
Oxidizer | 5.1 | 1 | 2 | 2 | X | 1 | 1 | 2 | X
Organic peroxide | 5.2 | 2 | 2 | 2 | 2 | 1 | 2 | 2 | X
Poisonous material | 6.1 | X | 1 | X | 1 | X | X | X | X
Infectious substance | 6.2 | 3 | 3 | 2 | 3 | 1 | 3 | 3 | X
Radioactive material | 7 | 2 | 2 | 2 | 1 | X | X | 2 | X
Corrosive material | 8 | 1 | 1 | 1 | 2 | X | 2 | X | X
Miscellaneous hazardous material | 9 | X | X | X | X | X | X | X | X
Numbers and symbols indicate the following terms as defined in § 148.3 of this part:
1—“Away from”.
2—“Separated from”.
3—“Separated by a complete hold or compartment from”.
4—“Separated longitudinally by an intervening complete compartment or hold from”.
X—No segregation required, except as specified in an applicable section of this subpart or Subpart E of this part.

§ 148.125 Stowage and segregation for materials of Class 4.1.

(a) Class 4.1 materials listed in Table 148.10 of this part must—

(1) Be kept as cool and dry as practical before loading;

(2) Not be loaded or transferred between vessels during periods of rain or snow;

(3) Be stowed separated from foodstuffs; and

(4) Be stowed clear of sources of heat and ignition and protected from sparks and open flame.

(b) Bulkheads between a hold containing a Class 4.1 material and incompatible materials must have cable and conduit penetrations sealed against the passage of gas and vapor.

§ 148.130 Stowage and segregation for materials of Class 4.2.

(a) Class 4.2 materials listed in Table 148.10 of this part must—

(1) Be kept as cool and dry as practical before loading;

(2) Not be loaded or transferred between vessels during periods of rain or snow;

(3) Be stowed clear of sources of heat and ignition and protected from sparks and open flame; and

(4) Except for copra and seed cake, be stowed separate from foodstuffs.

(b) The bulkhead between a hold containing a Class 4.2 material and a hold containing a material not permitted to mix with Class 4.2 materials must have cable and conduit penetrations sealed against the passage of gas and vapor.

§ 148.135 Stowage and segregation for materials of Class 4.3.

(a) Class 4.3 materials listed in Table 148.10 of this part which, in contact with water, emit flammable gases, must—

(1) Be kept as cool and dry as practical before loading;

(2) Not be loaded or transferred between vessels during periods of rain or snow;

(3) Be stowed separate from foodstuffs and all Class 8 liquids; and

(4) Be stowed in a mechanically ventilated hold. Exhaust gases must not penetrate into accommodation, work or control spaces. Unmanned barges that have adequate natural ventilation need not have mechanical ventilation.

(b) The bulkhead between a hold containing a Class 4.3 material and incompatible materials must have cable and conduit penetrations sealed against the passage of gas and vapor.

§ 148.140 Stowage and segregation for materials of Class 5.1.

(a) Class 5.1 materials listed in Table 148.10 of this part must—

(1) Be kept as cool and dry as practical before loading;

(2) Be stowed away from all sources of heat or ignition; and

(3) Be stowed separate from foodstuffs and all readily combustible materials.

(b) Special care must be taken to ensure that holds containing Class 5.1 materials are clean and, whenever practical, only noncombustible securing and protecting materials are used.

(c) Class 5.1 materials must be prevented from entering bilges or other cargo holds.

§ 148.145 Stowage and segregation for materials of Class 7.

(a) Class 7 material listed in Table 148.10 of this part must be stowed—

(1) Separate from foodstuffs; and

(2) In a hold or barge closed or covered to prevent dispersal of the material during transportation.

(b) [Reserved]

§ 148.150 Stowage and segregation for materials of Class 9.

(a) A bulk solid cargo of Class 9 material (miscellaneous hazardous material) listed in Table 148.10 of this part must be stowed and segregated as required by this section.

(b) Ammonium nitrate fertilizer of Class 9 must be segregated as required for Class 5.1 materials in §§ 148.120 and 148.140 of this part and must be stowed—

(1) Separated by a complete hold or compartment from readily combustible materials, chlorates, hypochlorites, nitrites, permanganates, and fibrous materials (e.g., cotton, jute, sisal, etc.);

(2) Clear of all sources of heat, including insulated piping; and

(3) Out of direct contact with metal engine-room boundaries.

(c) Castor beans must be stowed separate from foodstuffs and Class 5.1 materials.

(d) Fish meal must be stowed and segregated as required for Class 4.2 materials in §§ 148.120 and 148.130 of this part. In addition, its temperature at loading must not exceed 35 °C (95 °F), or 5 °C (9 °F) above ambient temperature, whichever is higher.

(e) Sulfur must be stowed and segregated as required under §§ 148.120 and 148.125 of this part for a material of Class 4.1.

§ 148.155 Stowage and segregation for potentially dangerous materials.

(a) A PDM must be stowed and segregated according to the requirements of this section and Table 148.155 of this section.

(b) When transporting coal—

(1) Coal must be stowed separate from materials of Class/division 1.4 and Classes 2, 3, 4, and 5 in packaged form; and separated from bulk solid materials of Classes 4 and 5.1;

(2) No material of Class 5.1, in either packaged or bulk solid form, may be stowed above or below a cargo of coal; and

(3) Coal must be separated longitudinally by an intervening complete cargo compartment or hold from materials of Class 1 other than Class/division 1.4.

(c) When transporting direct reduced iron (DRI)—

(1) DRI lumps, pellets, or cold-molded briquettes, and DRI hot-molded briquettes, must be separated from materials of Class/division 1.4, Classes 2, 3, 4, 5, Class 8 acids in packaged form, and bulk solid materials of Classes 4 and 5.1; and

(2) No material of Class 1, other than Class/division 1.4, may be transported on the same vessel with DRI.

(d) Petroleum coke, calcined or uncalcined, must be—

(1) Separated longitudinally by an intervening complete cargo compartment or hold from materials of Class/divisions 1.1 and 1.5; and

(2) Separated by a complete cargo compartment or hold from all hazardous materials and other potentially dangerous materials in packaged and bulk solid form.

Table 148.155—Stowage and Segregation Requirements for Potentially Dangerous Material
Potentially dangerous material | Segregate as for class listed ¹ | “Separate from” foodstuffs | Load only under dry weather conditions | Keep dry | Mechanical ventilation required | “Separate from” material listed | Special provisions
Aluminum Smelting By-products or Aluminum Re-melting Byproducts | 4.3 | X | X | X | X | Class 8 liquids |
Brown Coal Briquettes |  |  |  |  |  | See paragraph (b) of this section | See paragraph (b) of this section.
Charcoal | 4.1 |  |  | X |  | Oily materials |
Coal |  |  |  |  |  | See paragraph (b) of this section | See paragraph (b) of this section.
Direct reduced iron (A) |  |  |  |  |  | See paragraph (c) of this section | See paragraph (c) of this section.
Direct reduced iron (B) |  |  |  |  |  | See paragraph (c) of this section | See paragraph (c) of this section.
Ferrophosphorus | 4.3 | X | X | X | X | Class 8 liquids |
Ferrolilicon | 4.3 | X | X | X | X | Class 8 liquids |
Fluorospar |  | X |  |  |  | Class 8 liquids |
Lime, Unslaked |  |  |  | X |  | All packaged and bulk solid hazardous materials |
Linted Cotton Seed |  |  |  | X |  |  |
Magnesia, Unslaked |  |  |  |  |  | All packaged and bulk solid hazardous materials |
Metal Sulfide Concentrates | 4.2 | X |  |  |  | Class 8 liquids |
Petroleum Coke |  | X |  |  |  |  | See section 148.155(d).
Pitch Prill | 4.1 |  |  |  |  |  |
Pyrites, Calcined |  | X | X | X | X |  |
Sawdust | 4.1 |  |  | X |  | All Class 5.1 and 8 liquids |
Silicomanganese | 4.3 | X | X | X | X | Class 8 liquids |
Tankage | 4.2 | X | X |  |  |  |
Vanadium | 6.1 | X |  |  |  |  |
Wood chips | 4.1 |  |  |  |  |  |
Wood pellets | 4.1 |  |  |  |  |  |
Wood pulp pellets | 4.1 |  |  |  |  |  |
¹ See Tables 148.120A and B.

Subpart E—Special Requirements for Certain Materials

§ 148.200 Purpose.

This subpart prescribes special requirements for specific materials. These requirements are in addition to the minimum transportation requirements in Subpart C of this part that are applicable to all materials listed in Table 148.10 of this part.

§ 148.205 Ammonium nitrate and ammonium nitrate fertilizers.

(a) This section applies to the stowage and transportation in bulk of ammonium nitrate and the following fertilizers composed of uniform, non-segregating mixtures containing ammonium nitrate:

(1) Ammonium nitrate containing added organic matter that is chemically inert towards the ammonium nitrate; containing at least 90 percent ammonium nitrate and a maximum of 0.2 percent of combustible material (including organic material calculated as carbon); or containing less than 90 percent but more than 70 percent of ammonium nitrate and a maximum of 0.4 percent combustible material;

(2) Ammonium nitrate with calcium carbonate and/or dolomite, containing more than 80 percent but less than 90 percent of ammonium nitrate and a maximum of 0.4 percent of total combustible material;

(3) Ammonium nitrate with ammonium sulfate containing more than 45 percent but a maximum of 70 percent of ammonium nitrate and containing a maximum of 0.4 percent of combustible material; and

(4) Nitrogen phosphate or nitrogen/potash type fertilizers or complete nitrogen/phosphate/potash type fertilizers containing more than 70 percent but less than 90 percent of ammonium nitrate and a maximum of 0.4 percent of combustible material.

(b) No material covered by this section may be transported in bulk unless it demonstrates resistance to detonation when tested by one of the following methods:

(1) Appendix 2, Section 5, of the IMSBC Code (incorporated by reference, see § 148.8);

(2) Test series 1 and 2 of the Class 1 (explosive) in the UN Manual of Tests and Criteria, Part I (incorporated by reference, see § 148.8); or

(3) An equivalent test satisfactory to the Administration of the country of shipment.

(c) Before loading a material covered by this section—

(1) The shipper must give the master of the vessel written certification that the material has met the test requirements of paragraph (b) of this section;

(2) The cargo hold must be inspected for cleanliness and free from readily combustible materials;

(3) Each cargo hatch must be weathertight as defined in § 42.13-10 of this chapter;

(4) The temperature of the material must be less than 55 °C (131 °F); and

(5) Each fuel tank under a cargo hold where the material is stowed must be pressure tested before loading to ensure that there is no leakage of manholes or piping systems leading through the cargo hold.

(d) Bunkering or transferring of fuel to or from the vessel may not be performed during cargo loading and unloading operations involving a material covered by this section.

(e) When a material covered by this section is transported on a cargo vessel—

(1) No other material may be stowed in the same hold with that material;

(2) In addition to the segregation requirements in § 148.140 of this part, the material must be separated by a complete cargo compartment or hold from readily combustible materials, chlorates, chlorides, chlorites, hypochlorites, nitrites, permanganates, and fibrous materials; and

(3) The bulkhead between a cargo hold containing a material covered by this section and the engine room must be insulated to “A-60” class division or an equivalent arrangement to the satisfaction of the cognizant Coast Guard Captain of the Port or the Administration of the country of shipment.

§ 148.220 Ammonium nitrate-phosphate fertilizers.

(a) This section applies to the stowage and transportation of uniform, nonsegregating mixtures of nitrogen/phosphate or nitrogen/potash type fertilizers, or complete fertilizers of nitrogen/phosphate/potash type containing a maximum of 70 percent of ammonium nitrate and containing a maximum of 0.4 percent total added combustible material or containing a maximum of 45 percent ammonium nitrate with unrestricted combustible material.

(b) A fertilizer mixture described in paragraph (a) of this section is exempt if—

(1) When tested in accordance with the trough test prescribed in Appendix 2, Section 4, of the IMSBC Code or in the UN Manual of Tests and Criteria, Part III, Subsection 38.2 (incorporated by reference, see § 148.8), it is found to be free from the risk of self-sustaining decomposition.

(2) [Reserved]

(c) No fertilizer covered by this section may be transported in bulk if, when tested in accordance with the trough test prescribed in Appendix 2, Section 4, of the IMSBC Code or in the UN Manual of Tests and Criteria, Part III, Subsection 38.2 (incorporated by reference, see § 148.8), it has a self-sustaining decomposition rate that is greater than 0.25 meters per hour, or is liable to self-heat sufficient to initiate decomposition.

(d) Fertilizers covered by this section must be stowed away from all sources of heat, and out of direct contact with a metal engine compartment boundary.

(e) Bunkering or transferring of fuel may not be performed during loading and unloading of fertilizer covered by this section.

(f) Fertilizer covered by this section must be segregated as prescribed in §§ 148.140 and 148.220(d) of this part.

§ 148.225 Calcined pyrites (pyritic ash, fly ash).

(a) This part does not apply to the shipment of calcined pyrites that are the residual ash of oil or coal fired power stations.

(b) This section applies to the stowage and transportation of calcined pyrites that are the residual product of sulfuric acid production or elemental metal recovery operations.

(c) Before loading calcined pyrites covered by this section—

(1) The cargo space must be as clean and dry as practical;

(2) The calcined pyrites must be dry; and

(3) Precautions must be taken to prevent the penetration of calcined pyrites into other cargo spaces, bilges, wells, and ceiling boards.

(d) After calcined pyrites covered by this section have been unloaded from a cargo space, the cargo space must be thoroughly cleaned. Cargo residues and sweepings must be disposed of as prescribed in 33 CFR parts 151.55 through 151.77.

§ 148.227 Calcium nitrate fertilizers.

This part does not apply to commercial grades of calcium nitrate fertilizers consisting mainly of a double salt (calcium nitrate and ammonium nitrate) and containing a maximum of 15.5 percent nitrogen and at least 12 percent of water.

§ 148.230 Calcium oxide (lime, unslaked).

(a) When transported by barge, unslaked lime (calcium oxide) must be carried in an unmanned, all steel, double-hulled barge equipped with weathertight hatches or covers. The barge must not carry any other cargo while unslaked lime is on board.

(b) The shipping paper requirements in § 148.60 of this part and the dangerous cargo manifest requirements in § 148.70 of this part do not apply to the transportation of unslaked lime under paragraph (a) of this section.

§ 148.235 Castor beans.

(a) This part applies only to the stowage and transportation of whole castor beans. Castor meal, castor pomace, and castor flakes may not be shipped in bulk.

(b) Persons handling castor beans must wear dust masks and goggles.

(c) Care must be taken to prevent castor bean dust from entering accommodation, control, or service spaces during cargo transfer operations.

§ 148.240 Coal.

(a) The electrical equipment in cargo holds carrying coal must meet the requirements of Subpart 111.105 of this chapter or an equivalent standard approved by the administration of the vessel's flag state.

(b) Before coal is loaded in a cargo hold, the bilges must be as clean and dry as practical. The hold must also be free of any readily combustible material, including the residue of previous cargoes if other than coal.

(c) The master of each vessel carrying coal must ensure that—

(1) All openings to the cargo hold, except for unloading gates on self-unloading vessels, are sealed before loading the coal and, unless the coal is as described in paragraph (f) of this section, the hatches must also be sealed after loading;

(2) As far as practical, gases emitted by the coal do not accumulate in enclosed working spaces such as storerooms, shops, or passageways, and tunnel spaces on self-unloading vessels, and that such spaces are adequately ventilated;

(3) The vessel has adequate ventilation as required by paragraph (f) of this section; and

(4) If the temperature of the coal is to be monitored under paragraph (e)(2)(i) of this section, the vessel has instruments that are capable of measuring the temperature of the cargo in the range 0°-100 °C (32 °-212 °F) without entry into the cargo hold.

(d) A cargo hold containing coal must not be ventilated unless the conditions of paragraph (f) of this section are met, or unless methane is detected under paragraph (h) of this section.

(e) If coal waiting to be loaded has shown a tendency to self-heat, has been handled so that it may likely self-heat, or has been observed to be heating, the master is responsible for monitoring the temperature of the coal at several intervals during these times:

(1) Before loading; and

(2) During the voyage, by—

(i) Measuring the temperature of the coal;

(ii) Measuring the emission of carbon monoxide; or

(iii) Both.

(f) If coal waiting to be loaded has a potential to emit dangerous amounts of methane, for example it is freshly mined, or has a history of emitting dangerous amounts of methane, then:

(1) Surface ventilation, either natural or from fixed or portable nonsparking fans, must be provided; and

(2) The atmosphere above the coal must be monitored for the presence of methane as prescribed in paragraph (h) of this section. The results of this monitoring must be recorded at least twice in every 24-hour period, unless the conditions of paragraph (m) of this section are met.

(g) Electrical equipment and cables in a hold containing a coal described in paragraph (f) of this section must be either suitable for use in an explosive gas atmosphere or de-energized at a point outside the hold. Electrical equipment and cables necessary for continuous safe operations, such as lighting fixtures, must be suitable for use in an explosive gas atmosphere. The master of the vessel must ensure that the affected equipment and cables remain de-energized as long as this coal remains in the hold.

(h) For all coal loaded on a vessel, other than an unmanned barge, the atmosphere above the coal must be routinely tested for the presence of methane, carbon monoxide, and oxygen, following the procedures in the Appendices to the schedules for Coal and Brown Coal Briquettes as contained in the IMSBC Code (incorporated by reference, see § 148.8). This testing must be performed in such a way that the cargo hatches are not opened and entry into the hold is not necessary.

(i) When carrying a coal described in paragraph (e) of this section, the atmosphere above the coal must be monitored for the presence of carbon monoxide as prescribed in paragraph (h) of this section. The results of this monitoring must be recorded at least twice in every 24-hour period, unless the conditions of paragraph (m) of this section are met. If the level of carbon monoxide is increasing rapidly or reaches 20 percent of the lower flammability limit (LFL), the frequency of monitoring must be increased.

(j) When a cargo of coal has a potential to self-heat or has been observed to be heating, the hatches should be closed and sealed and all surface ventilation halted except as necessary to remove any methane that may have accumulated.

(k) If the level of carbon monoxide monitored under paragraph (i) of this section continues to increase rapidly or the temperature of coal carried on board a vessel exceeds 55 °C (131 °F) and is increasing rapidly, the master must notify the nearest Coast Guard Captain of the Port of—

(1) The name, nationality, and position of the vessel;

(2) The most recent temperature, if measured, and levels of carbon monoxide and methane;

(3) The port where the coal was loaded and the destination of the coal;

(4) The last port of call of the vessel and its next port of call; and

(5) What action has been taken.

(l) If the level of methane as monitored under paragraph (h) of this section reaches 20 percent of the LFL or is increasing rapidly, ventilation of the cargo hold, under paragraph (f) of this section, must be initiated. If this ventilation is provided by opening the cargo hatches, care must be taken to avoid generating sparks.

(m) The frequency of monitoring required by paragraph (f) of this section may be reduced at the discretion of the master provided that—

(1) The level of gas measured is less than 20 percent of the LFL;

(2) The level of gas measured has remained steady or decreased over three consecutive readings, or has increased by less than 5 percent over four consecutive readings spanning at least 48 hours; and

(3) Monitoring continues at intervals sufficient to determine that the level of gas remains within the parameters of paragraphs (m)(1) and (m)(2) of this section.

§ 148.242 Copra.

Copra must have surface ventilation. It must not be stowed against heated surfaces including fuel oil tanks which may require heating.

§ 148.245 Direct reduced iron (DRI); lumps, pellets, and cold-molded briquettes.

(a) Before loading DRI lumps, pellets, or cold-molded briquettes—

(1) The master must have a written certification from a competent person appointed by the shipper and recognized by the Commandant (CG-5223) stating that the DRI, at the time of loading, is suitable for shipment;

(2) The DRI must be aged for at least 3 days, or be treated with an air passivation technique or some other equivalent method that reduces its reactivity to at least the same level as the aged DRI; and

(3) Each hold and bilge must be as clean and dry as practical. Other than double bottom tanks, adjacent ballast tanks must be kept empty when possible. All wooden fixtures, such as battens, must be removed from the hold.

(b) Each boundary of a hold where DRI lumps, pellets, or cold-molded briquettes are to be carried must be resistant to fire and passage of water.

(c) DRI lumps, pellets, or cold-molded briquettes that are wet, or that are known to have been wetted, may not be accepted for transport. The moisture content of the DRI must not exceed 0.3 percent prior to loading.

(d) DRI lumps, pellets and cold-molded briquettes must be protected at all times from contact with water, and must not be loaded or transferred from one vessel to another during periods of rain or snow.

(e) DRI lumps, pellets, or cold-molded briquettes may not be loaded if their temperature is greater than 65 °C (150 °F).

(f) The shipper of DRI lumps, pellets, or cold-molded briquettes in bulk must ensure that an inert atmosphere of less than 5 percent oxygen and 1 percent hydrogen, by volume, is maintained throughout the voyage in any hold containing these materials.

(g) When DRI lumps, pellets, or cold-molded briquettes are loaded, precautions must be taken to avoid the concentration of fines (pieces less than 6.35mm in size) in any one location in the cargo hold.

(h) Radar and RDF scanners must be protected against the dust generated during cargo transfer operations of DRI lumps, pellets, or cold-molded briquettes.

§ 148.250 Direct reduced iron (DRI); hot-molded briquettes.

(a) Before loading DRI hot-molded briquettes—

(1) The master must have a written certification from a competent person appointed by the shipper and recognized by the Commandant (CG-5223) that at the time of loading the DRI hot-molded briquettes are suitable for shipment; and

(2) Each hold and bilge must be as clean and dry as practical. Except double bottom tanks, adjacent ballast tanks must be kept empty where possible. All wooden fixtures, such as battens, must be removed.

(b) All boundaries of a hold must be resistant to fire and passage of water to carry DRI hot-molded briquettes.

(c) DRI hot-molded briquettes must be protected at all times from contact with water. They must not be loaded or transferred from one vessel to another during periods of rain or snow.

(d) DRI hot-molded briquettes may not be loaded if their temperature is greater than 65 °C (150 °F).

(e) When loading DRI hot-molded briquettes, precautions must be taken to avoid the concentration of fines (pieces less than 6.35mm in size) in any one location in the cargo hold.

(f) Adequate surface ventilation must be provided when carrying or loading DRI hot-molded briquettes.

(g) When DRI hot-molded briquettes are carried by unmanned barge—

(1) The barge must be fitted with vents adequate to provide natural ventilation; and

(2) The cargo hatches must be closed at all times after loading the DRI hot-molded briquettes.

(h) Radar and RDF scanners must be adequately protected against dust generated during cargo transfer operations of DRI hot-molded briquettes.

(i) During final discharge only, a fine spray of water may be used to control dust from DRI hot-molded briquettes.

§ 148.255 Ferrosilicon, aluminum ferrosilicon, and aluminum silicon containing more than 30% but less than 90% silicon.

(a) This section applies to the stowage and transportation of ferrosilicon, aluminum ferrosilicon, and aluminum silicon containing more than 30 percent but less than 90 percent silicon.

(b) The shipper of material described in paragraph (a) of this section must give the master a written certification stating that after manufacture the material was stored under cover, but exposed to the weather, in the particle size in which it is to be shipped, for at least three days before shipment.

(c) Material described in paragraph (a) of this section must be protected at all times from contact with water, and must not be loaded or unloaded during periods of rain or snow.

(d) Except as provided in paragraph (e) of this section, each hold containing material described in paragraph (a) of this section must be mechanically ventilated by at least two separate fans. The total ventilation must be at least five air changes per hour, based on the empty hold. Ventilation must not allow escaping gas to reach accommodation or work spaces, on or under deck.

(e) An unmanned barge which is provided with natural ventilation need not comply with paragraph (d) of this section.

(f) Each space adjacent to a hold containing material described in paragraph (a) of this section must be well ventilated with mechanical fans. No person may enter that space unless it has been tested to ensure that it is free from phosphine and arsine gases.

(g) Scuttles and windows in accommodation and work spaces adjacent to holds containing material described in paragraph (a) of this section must be kept closed while this material is being loaded and unloaded.

(h) Any bulkhead between a hold containing material described in paragraph (a) of this section and an accommodation or work space must be gas tight and adequately protected against damage from any unloading equipment.

(i) When a hold containing material described in paragraph (a) of this section is equipped with atmosphere sampling type smoke detectors with lines that terminate in accommodation or work spaces, those lines must be blanked off gas-tight.

(j) If a hold containing material described in paragraph (a) of this section must be entered at any time, the hatches must be open for two hours before entry to dissipate any accumulated gases. The atmosphere in the hold must be tested to ensure that there is no phosphine or arsine gas present.

(k) After unloading material described in paragraph (a) of this section, each cargo hold must be thoroughly cleaned and tested to ensure that no phosphine or arsine gas remains.

§ 148.260 Ferrous metal.

(a) This part does not apply to the stowage and transportation in bulk of stainless steel borings, shavings, turnings, or cuttings; nor does this part apply to an unmanned barge on a voyage entirely on the navigable waters of United States.

(b) Ferrous metal may not be stowed or transported in bulk unless the following conditions are met:

(1) All wooden sweat battens, dunnage, and debris must be removed from the hold before the ferrous metal is loaded;

(2) If weather is inclement during loading, hatches must be covered or otherwise protected to keep the material dry;

(3) During loading and transporting, the bilge of each hold in which ferrous metal is stowed or will be stowed must be kept as dry as practical;

(4) During loading, the ferrous metal must be compacted in the hold as frequently as practicable with a bulldozer or other means that provides equivalent surface compaction;

(5) No other material may be loaded in a hold containing ferrous metal unless—

(i) The material to be loaded in the same hold with the ferrous metal is not a material listed in Table 148.10 of this part or a readily combustible material;

(ii) The loading of the ferrous metal is completed first; and

(iii) The temperature of the ferrous metal in the hold is below 55 °C (131 °F) or has not increased in eight hours before the loading of the other material; and

(6) During loading, the temperature of the ferrous metal in the pile being loaded must be below 55 °C (131 °F).

(c) The master of a vessel that is loading or transporting a ferrous metal must ensure that the temperature of the ferrous metal is taken—

(1) Before loading;

(2) During loading, in each hold and pile being loaded, at least once every twenty-four hours and, if the temperature is rising, as often as is necessary to ensure that the requirements of this section are met; and

(3) After loading, in each hold, at least once every 24 hours.

(d) During loading, if the temperature of the ferrous metal in a hold is 93 °C (200 °F) or higher, the master must notify the Coast Guard Captain of the Port and suspend loading until the Captain of the Port is satisfied that the temperature of the ferrous metal is 88 °C (190 °F) or less.

(e) After loading ferrous metal—

(1) If the temperature of the ferrous metal in each hold is 65 °C (150 °F) or above, the master must notify the Coast Guard Captain of the Port, and the vessel must remain in the port area until the Captain of the Port is satisfied that the temperature of ferrous metal has shown a downward trend below 65 °C (150 °F) for at least eight hours after completion of loading of the hold; or

(2) If the temperature of the ferrous metal in each hold is less than 88 °C (190 °F) and has shown a downward trend for at least eight hours after the completion of loading, the master must notify the Coast Guard Captain of the Port, and the vessel must remain in the port area until the Captain of the Port confirms that the vessel is sailing directly to another port, no further than 12 hours sailing time, for the purpose of loading more ferrous metal in bulk or to completely off-load the ferrous metal.

(f) Except for shipments of ferrous metal in bulk which leave the port of loading under the conditions specified in paragraph (e)(2) of this section, if after the vessel leaves the port, the temperature of the ferrous metal in the hold rises above 65 °C (150 °F), the master must notify the nearest Coast Guard Captain of the Port as soon as possible of—

(1) The name, nationality, and position of the vessel;

(2) The most recent temperature taken;

(3) The length of time that the temperature has been above 65 °C (150 °F) and the rate of rise, if any;

(4) The port where the ferrous metal was loaded and the destination of the ferrous metal;

(5) The last port of call of the vessel and its next port of call;

(6) What action has been taken; and

(7) Whether any other cargo is endangered.

§ 148.265 Fish meal or fish scrap.

(a) This part does not apply to fish meal or fish scrap that contains less than 5 percent moisture by weight.

(b) Fish meal or fish scrap may contain a maximum of 12 percent moisture by weight and a maximum of 15 percent fat by weight.

(c) At the time of production, fish meal or fish scrap must be treated with an effective antioxidant (at least 400 mg/kg (ppm) ethoxyquin, at least 1000 mg/kg (ppm) butylated hydroxytoluene, or at least 1000 mg/kg (ppm) of tocopherol-based liquid antioxidant).

(d) Shipment of the fish meal or fish scrap must take place a maximum of 12 months after the treatment prescribed in paragraph (c) of this section.

(e) Fish meal or fish scrap must contain at least 100 mg/kg (ppm) of ethoxyquin or butylated hydroxytoluene or at least 250 mg/kg (ppm) of tocopherol-based antioxidant at the time of shipment.

(f) At the time of loading, the temperature of the fish meal or fish scrap to be loaded may not exceed 35 °C (95 °F), or 5 °C (9 °F) above the ambient temperature, whichever is higher.

(g) For each shipment of fish meal or fish scrap, the shipper must give the master a written certification stating—

(1) The total weight of the shipment;

(2) The moisture content of the material;

(3) The fat content of the material;

(4) The type of antioxidant and its concentration in the fish meal or fish scrap at the time of shipment;

(5) The date of production of the material; and

(6) The temperature of the material at the time of shipment.

(h) During a voyage, temperature readings must be taken of fish meal or fish scrap three times a day and recorded. If the temperature of the material exceeds 55 °C (131 °F) and continues to increase, ventilation to the hold must be restricted. This paragraph does not apply to shipments by unmanned barge.

§ 148.270 Hazardous substances.

(a) Each bulk shipment of a hazardous substance must—

(1) Be assigned a shipping name in accordance with 49 CFR 172.203(c); and

(2) If the hazardous substance is also listed as a hazardous solid waste in 40 CFR part 261, follow the applicable requirements of 40 CFR chapter I, subchapter I.

(b) Each release of a quantity of a designated substance equal to or greater than the reportable quantity, as set out in Table 1 to Appendix A of 49 CFR 171.101, when discharged into or upon the navigable waters of the United States, adjoining shorelines, into or upon the contiguous zone, or beyond the contiguous zone, must be reported as required in subpart B of 33 CFR part 153.

(c) A hazardous substance must be stowed in a hold or barge that is closed or covered and prevents dispersal of the material during transportation.

(d) During cargo transfer operations, a spill or release of a hazardous substance must be minimized to the greatest extent possible. Each release must be reported as required in paragraph (b) of this section.

(e) After a hazardous substance is unloaded, the hold in which it was carried must be cleaned thoroughly. The residue of the substance must be disposed of pursuant to 33 CFR 151.55 through 151.77 and the applicable regulations of 40 CFR subchapter I.

§ 148.275 Iron oxide, spent; iron sponge, spent.

(a) Before spent iron oxide or spent iron sponge is loaded in a closed hold, the shipper must give the master a written certification that the material has been cooled and weathered for at least eight weeks.

(b) Both spent iron oxide and spent iron sponge may be transported on open hold all-steel barges after exposure to air for a period of at least ten days.

§ 148.280 Magnesia, unslaked (lightburned magnesia, calcined magnesite, caustic calcined magnesite).

(a) This part does not apply to the transport of natural magnesite, magnesium carbonate, or magnesia clinkers.

(b) When transported by barge, unslaked magnesia must be carried in an unmanned, all-steel, double-hulled barge equipped with weathertight hatches or covers. The barge may not carry any other cargo while unslaked magnesia is on board.

(c) The shipping paper requirements in § 148.60 of this part and the dangerous cargo manifest requirements in § 148.70 of this part do not apply to unslaked magnesia transported under the requirements of paragraph (b) of this section.

§ 148.285 Metal sulfide concentrates.

(a) When information given by the shipper under § 148.60 of this part indicates that the metal sulfide concentrate may generate toxic or flammable gases, the appropriate gas detection equipment from §§ 148.415 and 148.420 of this part must be on board the vessel.

(b) No cargo hold containing a metal sulfide concentrate may be ventilated.

(c) No person may enter a hold containing a metal sulfide concentrate unless—

(1) The atmosphere in the cargo hold has been tested and contains sufficient oxygen to support life and, where the shipper indicates that toxic gas(es) may be generated, the atmosphere in the cargo hold has been tested for the toxic gas(es) and the concentration of the gas(es) is found to be less than the TLV; or

(2) An emergency situation exists and the person entering the cargo hold is wearing the appropriate self-contained breathing apparatus.

§ 148.290 Peat moss.

(a) Before shipment, peat moss must be stockpiled under cover to allow drainage and reduce its moisture content.

(b) The cargo must be ventilated so that escaping gases cannot reach living quarters on or above deck.

(c) Persons handling or coming into contact with peat moss must wear gloves, a dust mask, and goggles.

§ 148.295 Petroleum coke, calcined or uncalcined, at 55 °C (131 °F) or above.

(a) This part does not apply to shipments of petroleum coke, calcined or uncalcined, on any vessel when the temperature of the material is less than 55 °C (131 °F).

(b) Petroleum coke, calcined or uncalcined, or a mixture of calcined and uncalcined petroleum coke may not be loaded when its temperature exceeds 107 °C (225 °F).

(c) No other hazardous materials may be stowed in any hold adjacent to a hold containing petroleum coke except as provided in paragraph (d) of this section.

(d) Before petroleum coke at 55 °C (131 °F) or above may be loaded into a hold over a tank containing fuel or material having a flashpoint of less than 93 °C (200 °F), a 0.6 to 1.0 meter (2 to 3 foot) layer of the petroleum coke at a temperature not greater than 43 °C (110 °F) must first be loaded.

(e) Petroleum coke must be loaded as follows:

(1) For a shipment in a hold over a fuel tank, the loading of a cooler layer of petroleum coke in the hold as required by paragraph (d) of this section must be completed before loading the petroleum coke at 55 °C (131 °F) or above in any hold of the vessel;

(2) Upon completion of the loading described in paragraph (e)(1) of this section, a 0.6 to 1.0 meter (2 to 3 foot) layer of the petroleum coke at 55 °C (131 °F) or above must first be loaded into each hold, including those holds already containing a cooler layer of the petroleum coke; and

(3) Upon completion of the loading described in paragraph (e)(2) of this section, normal loading of the petroleum coke may be completed.

(f) The master of the vessel must warn members of a crew that petroleum coke is hot, and that injury due to burns is possible.

(g) During the voyage, the temperature of the petroleum coke must be monitored often enough to detect spontaneous heating.

§ 148.300 Radioactive materials.

(a) Radioactive materials that may be stowed or transported in bulk are limited to those radioactive materials defined in 49 CFR 173.403 as Low Specific Activity Material, LSA-1, or Surface Contaminated Object, SCO-1.

(b) Skin contact, inhalation or ingestion of dusts generated by Class 7 material listed in Table 148.10 of this part must be minimized.

(c) Each hold used for the transportation of Class 7 material (radioactive) listed in Table 148.10 of this part must be surveyed after the completion of off-loading by a qualified person using appropriate radiation detection instruments. Such holds must not be used for the transportation of any other material until the non-fixed contamination on any surface, when averaged over an area of 300 cm², does not exceed the following levels:

(1) 4.0 Bq/cm² (10⁻⁴ uCi/cm²;) for beta and gamma emitters and low toxicity alpha emitters, natural uranium, natural thorium, uranium-235, uranium-238, thorium-232, thorium-228 and thorium-230 when contained in ores or physical or chemical concentrates, and radionuclides with a half-life of less than 10 days; and

(2) 0.4 Bq/cm² (10⁻⁵ uCi/cm²) for all other alpha emitters.

§ 148.310 Seed cake.

(a) This part does not apply to solvent-extracted rape seed meal, pellets, soya bean meal, cotton seed meal, or sunflower seed meal that—

(1) Contains a maximum of 4 percent vegetable oil and a maximum of 15 percent vegetable oil and moisture combined; and

(2) As far as practical, is free from flammable solvent.

(b) This part does not apply to mechanically expelled citrus pulp pellets containing not more than 2.5 percent oil and a maximum of 14 percent oil and moisture combined.

(c) Before loading, the seed cake must be aged per the instructions of the shipper.

(d) Before loading, the shipper must give the master or person in charge of a barge a certificate from a competent testing laboratory stating the oil and moisture content of the seed cake.

(e) The seed cake must be kept as dry as practical at all times.

(f) If the seed cake is solvent-extracted, it must be—

(1) As free as practical from flammable solvent; and

(2) Stowed in a mechanically ventilated hold.

(g) For a voyage with a planned duration greater than 5 days, the vessel must be equipped with facilities for introducing carbon dioxide or another inert gas into the hold.

(h) Temperature readings of the seed cake must be taken at least once in every 24-hour period. If the temperature exceeds 55 °C (131 °F) and continues to increase, ventilation to the cargo hold must be discontinued. If heating continues after ventilation has been discontinued, carbon dioxide or the inert gas required under paragraph (g) of this section must be introduced into the hold. If the seed cake is solvent-extracted, the use of inert gas must not be introduced until fire is apparent, to avoid the possibility of igniting the solvent vapors by the generation of static electricity.

(i) Seed cake must be carried under the terms of a Special Permit issued by the Commandant (CG-5223) per subpart B of this part if—

(1) The oil was mechanically expelled; and

(2) It contains more than 10 percent vegetable oil or more than 20 percent vegetable oil and moisture combined.

§ 148.315 Sulfur.

(a) This part applies to lump or coarse grain powder sulfur only. Fine-grained powder (“flowers of sulfur”) may not be transported in bulk.

(b) After the loading or unloading of lump or coarse grain powder sulfur has been completed, sulfur dust must be removed from the vessel's decks, bulkheads, and overheads. Cargo residues and deck sweepings must be disposed of pursuant to 33 CFR 151.55 through 151.77.

(c) A cargo space that contains sulfur or the residue of a sulfur cargo must be adequately ventilated, preferably by mechanical means. Each ventilator intake must be fitted with a spark-arresting screen.

§ 148.320 Tankage; garbage tankage; rough ammonia tankage; or tankage fertilizer.

(a) This part applies to rough ammonia tankage in bulk that contains 7 percent or more moisture by weight, and garbage tankage and tankage fertilizer that contains 8 percent or more moisture by weight.

(b) Tankage to which this part applies may not be loaded in bulk if its temperature exceeds 38 °C (100 °F).

(c) During the voyage, the temperature of the tankage must be monitored often enough to detect spontaneous heating.

§ 148.325 Wood chips; wood pellets; wood pulp pellets.

(a) This part applies to wood chips and wood pulp pellets in bulk that may oxidize, leading to depletion of oxygen and an increase in carbon dioxide in the cargo hold.

(b) No person may enter a cargo hold containing wood chips, wood pellets, or wood pulp pellets, unless—

(1) The atmosphere in the cargo hold has been tested and contains enough oxygen to support life; or

(2) The person entering the cargo hold is wearing the appropriate self-contained breathing apparatus.

§ 148.330 Zinc ashes; zinc dross; zinc residues; zinc skimmings.

(a) The shipper must inform the cognizant Coast Guard Captain of the Port in advance of any cargo transfer operations involving zinc ashes, zinc dross, zinc residues, or zinc skimmings (collectively, “zinc material”) in bulk.

(b) Zinc material must be aged by exposure to the elements for at least one year before shipment in bulk.

(c) Before loading in bulk, zinc material must be stored under cover for a period of time to ensure that it is as dry as practical. No zinc material that is wet may be accepted for shipment.

(d) Zinc material may not be loaded in bulk if its temperature is greater than 11.1 °C (52 °F) in excess of the ambient temperature.

(e) Paragraphs (e)(1) through (e)(5) of this section apply only when zinc materials are carried by a cargo vessel:

(1) Zinc material in bulk must be stowed in a mechanically ventilated hold that—

(i) Is designed for at least one complete air change every 30 minutes based on the empty hold;

(ii) Has explosion-proof motors approved for use in Class I, Division 1, Group B atmospheres or equivalent motors approved by the vessel's flag state administration for use in hydrogen atmospheres; and

(iii) Has nonsparking fans.

(2) Combustible gas detectors capable of measuring hydrogen concentrations of 0 to 4.1 percent by volume must be permanently installed in holds that will carry zinc material. If the concentration of hydrogen in the space above the cargo exceeds 1 percent by volume, the ventilation system must be run until the concentration drops below 1 percent by volume.

(3) Thermocouples must be installed approximately 6 inches below the surface of the zinc material or in the space immediately above the zinc material. If an increase in temperature is detected, the mechanical ventilation system required by paragraph (d) of this section must be used until the temperature of the zinc material is below 55 °C (131 °F).

(4) Except as provided in paragraph (e)(5) of this section, the cargo hatches of holds containing zinc material must remain sealed to prevent the entry of seawater.

(5) If the concentration of hydrogen is near 4.1 percent by volume and increasing, despite ventilation, or the temperature of the zinc material reaches 65 °C (150 °F), the cargo hatches should be opened provided that weather and sea conditions are favorable. When hatches are opened take care to prevent sparks and minimize the entry of water.

Subpart F—Additional Special Requirements

§ 148.400 Applicability.

Unless stated otherwise, the requirements of this subpart apply only to the shipment or loading of materials, listed in Table 148.10 of this part, for which Table 148.10 contains a reference to a section or paragraph of this subpart.

§ 148.405 Sources of ignition.

(a) Except in an emergency, no welding, burning, cutting, chipping, or other operations involving the use of fire, open flame, sparks, or arc-producing equipment, may be performed in a cargo hold containing a Table 148.10 material or in an adjacent space.

(b) A cargo hold or adjacent space must not have any flammable gas concentrations over 10 percent of the LFL before the master may approve operations involving the use of fire, open flame, or spark- or arc-producing equipment in that hold or adjacent space.

§ 148.407 Smoking.

When Table 148.10 of this part associates a material with a reference to this section, and that material is being loaded or unloaded, smoking is prohibited anywhere on the weatherdeck of the vessel. While such a material is on board the vessel, smoking is prohibited in spaces adjacent to the cargo hold and on the vessel's deck in the vicinity of cargo hatches, ventilator outlets, and other accesses to the hold containing the material. “NO SMOKING” signs must be displayed in conspicuous locations in the areas where smoking is prohibited.

§ 148.410 Fire hoses.

When Table 148.10 of this part associates a material with a reference to this section, a fire hose must be available at each hatch through which the material is being loaded.

§ 148.415 Toxic gas analyzers.

When Table 148.10 of this part associates a material with a reference to a paragraph in this section, each vessel transporting the material, other than an unmanned barge, must have on board a gas analyzer appropriate for the toxic gas listed in that paragraph. At least two members of the crew must be knowledgeable in the use of the equipment. The equipment must be maintained in a condition ready for use and calibrated according to the instructions of its manufacturer. The atmosphere in the cargo hold and adjacent spaces must be tested before a person is allowed to enter these spaces. If toxic gases are detected, the space must be ventilated and retested before entry. The toxic gases for which the requirements of this section must be met are:

(a) Arsine;

(b) Carbon monoxide;

(c) Hydrogen cyanide;

(d) Hydrogen sulfide;

(e) Phosphine; and

(f) Sulfur dioxide.

§ 148.420 Flammable gas analyzers.

When Table 148.10 of this part associates a material with a reference to a paragraph in this section, each vessel transporting the material, other than an unmanned barge, must have on board a gas analyzer appropriate for the flammable gas listed in that paragraph. At least two members of the crew must be knowledgeable in the use of the equipment. The equipment must be maintained in a condition ready for use, capable of measuring 0 to 100 percent LFL for the gas indicated, and calibrated in accordance with the instructions of its manufacturer. The atmosphere in the cargo hold must be tested before any person is allowed to enter. If flammable gases are detected, the space must be ventilated and retested before entry. The flammable gases for which the requirements of this section must be met are:

(a) Carbon monoxide;

(b) Hydrogen; and

(c) Methane.

§ 148.435 Electrical circuits in cargo holds.

During transport of a material that Table 148.10 of this part associates with a reference to this section, each electrical circuit terminating in a cargo hold containing the material must be electrically disconnected from the power source at a point outside of the cargo hold. The point of disconnection must be marked to prevent the circuit from being reenergized while the material is on board.

§ 148.445 Adjacent spaces.

When transporting a material that Table 148.10 of this part associates with a reference to this section, the following requirements must be met:

(a) Each space adjacent to a cargo hold must be ventilated by natural ventilation or by ventilation equipment safe for use in an explosive gas atmosphere.

(b) Each space adjacent to a cargo hold containing the material must be regularly monitored for the presence of the flammable gas indicated by reference to § 148.420 of this part. If the level of flammable gas in any space reaches 30 percent of the LFL, all electrical equipment that is not certified safe for use in an explosive gas atmosphere must be de-energized at a location outside of that space. This location must be labeled to prohibit reenergizing until the atmosphere in the space is tested and found to be less than 30 percent of the LFL.

(c) Each person who enters any space adjacent to a cargo hold or compartment containing the material must wear a self-contained breathing apparatus unless—

(1) The space has been tested, or is routinely monitored, for the appropriate flammable gas and oxygen;

(2) The level of flammable gas is less than 10 percent of the LFL; and

(3) The level of toxic gas, if required to be tested, is less than the TLV.

(d) No person may enter an adjacent space if the level of flammable gas is greater than 30 percent of the LFL. If emergency entry is necessary, each person who enters the space must wear a self-contained breathing apparatus and caution must be exercised to ensure that no sparks are produced.

§ 148.450 Cargoes subject to liquefaction.

(a) This section applies only to cargoes identified in Table 148.10 of this part with a reference to this section and cargoes identified in the IMSBC Code (incorporated by reference, see § 148.8) as cargoes that may liquefy.

(b) This section does not apply to—

(1) Shipments by unmanned barge; or

(2) Cargoes of coal that have an average particle size of 10mm (.394 in.) or greater.

(c) Definitions as used in this section—

(1) Cargo subject to liquefaction means a material that is subject to moisture migration and subsequent liquefaction if shipped with moisture content in excess of the transportable moisture limit.

(2) Moisture migration is the movement of moisture by settling and consolidation of a material, which may result in the development of a flow state in the material.

(3) Transportable moisture limit or TML of a cargo that may liquefy is the maximum moisture content that is considered safe for carriage on vessels.

(d) Except on a vessel that is specially constructed or specially fitted for the purpose of carrying such cargoes (see also section 7 of the IMSBC Code, incorporated by reference, see § 148.8), a cargo subject to liquefaction may not be transported by vessel if its moisture content exceeds its TML.

(e) The shipper of a cargo subject to liquefaction must give the master the material's moisture content and TML.

(f) The master of a vessel shipping a cargo subject to liquefaction must ensure that—

(1) A cargo containing a liquid is not stowed in the same cargo space with a cargo subject to liquefaction; and

(2) Precautions are taken to prevent the entry of liquids into a cargo space containing a cargo subject to liquefaction.

(g) The moisture content and TML of a material may be determined by the tests described in Appendix 2, Section 1, of the IMSBC Code (incorporated by reference, see § 148.8).

Dated: October 4, 2010.
J.G. Lantz,
Director of Commercial Regulations and Standards, U.S. Coast Guard.

[FR Doc. 2010-25383 Filed 10-18-10; 8:45 am]

BILLING CODE 9110-04-P